DEPARTMENT OF HOUSING AND URBAN DEVELOPMENT

[Docket No. FR-4591-N-02]

Notice of Regulatory Waiver Requests Granted for the First Quarter of Calendar Year 2000

AGENCY: Office of the Secretary, HUD.

ACTION: Public Notice of the Granting of Regulatory Waivers from April 1, 2000 through June 30, 2000.

SUMMARY: Section 106 of the Department of Housing and Urban Development Reform Act of 1989 (the “HUD Reform Act”), requires HUD to publish quarterly Federal Register notices of all regulatory waivers that HUD has approved. Each notice must cover the quarterly period since the most recent Federal Register notice. The purpose of this notice is to comply with the requirements of section 106 of the HUD Reform Act. This notice contains a list of regulatory waivers granted by HUD during the quarter beginning on April 1, 2000 and ending on June 30, 2000.

FOR FURTHER INFORMATION CONTACT: For general information about this notice, contact Camille E. Acevedo, Associate General Counsel for Legislation and Regulations, Room 10282, Department of Housing and Urban Development, 451 Seventh Street, SW., Washington, DC 20410; telephone (202) 708-3055 (this is not a toll-free number). Hearing or speech-impaired persons may access this number via TTY by calling the toll-free Federal Information Relay Service at 1-800-877-8391.

For information concerning a particular waiver action for which public notice is provided in this document, contact the person whose name and address follow the description of the waiver granted in the accompanying list of waiver-grant actions.

SUPPLEMENTARY INFORMATION: As part of the Housing and Urban Development Reform Act of 1989 (the “HUD Reform Act”), the Congress adopted, at HUD's request, legislation to limit and control the granting of regulatory waivers by HUD. Section 106 of the HUD Reform Act added a new section 7(q) to the Department of Housing and Urban Development Act (2 U.S.C. 3535(q)), which provides that:

1. Any waiver of a regulation must be in writing and must specify the grounds for approving the waiver;

2. Authority to approve a waiver of a regulation may be delegated by the Secretary only to an individual of Assistant Secretary rank or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived, and the designation of the provision;

c. Indicate the name and title of the person who granted the waiver request;

d. Describe briefly the grounds for approval of the request;

e. State how additional information about a particular waiver grant action may be obtained.

Section 106 of the HUD Reform Act also contains requirements applicable to waivers of HUD handbook provisions that are not relevant to the purpose of this notice.

Today's document follows publication of HUD's Statement of Policy on Waiver of Regulations and Directives issued by HUD on April 22, 1991 (56 FR 16337). This notice covers HUD's waiver-grant activity from April 1, 2000 through June 30, 2000. Additionally, this notice contains five reports on regulatory waivers granted during 1999, which were inadvertently omitted in the 1999 reports. Two reports can be found in Section II of this notice with respect to waivers granted in connection with 24 CFR 50.17 and 1000.20(a). The third can be found in Section V with respect to a waiver granted in connection with 24 CFR 968.112, and the fourth and fifth also can be found in Section V with respect to a waiver granted in connection with 24 CFR 1000.156.

For ease of reference, the waivers granted by HUD are listed by HUD program office (for example, the Office of Community Planning and Development, the Office of Housing, the Office of Public and Indian Housing, etc.). Within each program office grouping, the waivers are listed sequentially by the section of title 24 being waived. For example, a waiver-grant action involving the waiver of a provision in 24 CFR part 58 would come before a waiver of a provision in 24 CFR part 570.

Where more than one regulatory provision is involved in the grant of a particular waiver request, the action is listed under the section number of the first regulatory requirement in title 24 that is being waived as part of the waiver-grant action. For example, a waiver of both § 58.73 and § 58.74 would appear sequentially in the listing under § 58.73.

Waiver-grant actions involving the same initial regulatory citation are in time sequence beginning with the earliest-dated waiver grant action.

Should HUD receive additional reports of waiver actions taken during the period covered by this report before the next report is published, the next updated report will include these earlier actions, as well as those that occurred between July 1, 2000 through September 30, 2000.

Accordingly, information about approved waiver requests pertaining to HUD regulations is provided in the Appendix that follows this notice.

Dated: October 25, 2000.
Andrew Cuomo,
Secretary,

Appendix—Listing of Waivers of Regulatory Requirements Granted by Offices of the Department of Housing and Urban Development April 1, 2000 Through June 30, 2000

Note to Reader: More information about the granting of these waivers, including a copy of the waiver request and approval, may be obtained by contacting the person whose name is listed as the contact person directly before each set of waivers granted.

The regulatory waivers granted appear in the following order:

I. Regulatory waivers granted by the Office of Community Planning and Development.

II. Regulatory waivers granted by the Office of Community Planning and Development and the Office of Public and Indian Housing.

III. Regulatory waivers granted by the Office of Housing.

IV. Regulatory waivers granted by the Office of Multifamily Housing Assistance Restructuring.

V. Regulatory waivers granted by the Office of Public and Indian Housing.

I. Regulatory Waivers Granted by the Office of Community Planning and Development

For further information about the following waiver actions, please see the name of the contact person which immediately follows the description of the waiver granted.

• Regulation: 24 CFR 58.34(b) and 24 CFR 58.38.

Project/Activity: Rehabilitation of housing owned by the Sac & Fox of Oklahoma Tribe and Housing Authority using Comprehensive Grant Program funding.

Nature of Requirement: Section 58.34(b) requires, when a grant recipient makes a determination that an activity or project is exempt from environmental review requirements, such determination must be documented in writing. Section 58.38 requires a recipient to maintain a written record of the environmental review undertaken for each activity or project.

Granted By: Cardell Cooper, Assistant Secretary for Community Planning and Development.

Date Granted: February 2, 2000.

Reason Waived: The recipient failed to prepare a complete Environmental Review Record (ERR) as required under § 58.38 prior to obligating Federal grant funds to the activity. HUD reviewed the activities and determined they met the requirements for a determination of categorical exclusion under § 58.35(a)(3) and subsequent determination of exemption based on § 58.34(a)(12). HUD further determined that no environmental degradation resulted from the regulatory noncompliance and that no mitigation activities would have been necessary. A complete ERR has been prepared by the recipient. Based on the above, HUD determined that a waiver of the regulatory requirements would maintain the integrity of HUD's environmental review process and was consistent with Executive Order 12084 which encourages flexibility in the consideration of waiver requests from tribal governments.

Contact: Bruce Knott, Director, Office of Grants Evaluation, Office of Native American Programs, Department of Housing and Urban Development, 1999 Broadway, Suite 3390, Box 90, Denver, CO 80202, telephone (303) 675-1600.

• Regulation: 24 CFR 58.40(f).

Project/Activity: Rehabilitation of Cedarbrook multifamily housing. The City of Hanford, CA, requested a waiver of 24 CFR 58.40(f).

Nature of Requirement: In preparing an environmental assessment, the responsible entity must complete all environmental review requirements necessary for the project's compliance with applicable authorities cited in 24 CFR 58.5 and 58.6, which include Federal historic preservation regulations in 36 CFR part 800. Completion of an environmental assessment is required before the responsible entity may request a release of funds and the Department may release funds for a covered project.

Granted By: Cardell Cooper, Assistant Secretary for Community Planning and Development.

Date Granted: June 14, 2000.

Reason Waived: The community housing development organization (CHDO) finished its construction of the project before the responsible entity completed the historic preservation review that constitutes part of the environmental assessment. By so doing, the CHDO precluded subsequent full completion of the historic preservation review because, in the opinion of the State Historic Preservation Officer, any archeological resources were likely destroyed by the construction activities. However, evidence showed that there were no records of archeological resources on the site. The waiver was granted in order to provide funding to the completed project because this would produce results consistent with and further the purpose of the HOME Investment Partnership Act and would provide much needed housing to low and moderate income persons of the Hanford, California area.

Contact: Cornelia Robertson-Terry, Office of Community Planning and Development, Department of Housing and Urban Development, 451 Seventh Street, SW., Room 7152, Washington, DC 20410, telephone (202) 708-2565.

• Regulation: 24 CFR 91.520(a).

Project/Activity: The State of Montana requested a two-month extension for submitting its Consolidated Annual Performance and Evaluation Report (CAPER).

Nature of Requirement: HUD's regulation at 24 CFR 91.520 requires grantees to submit a CAPER within 90 calendar days after the close of the jurisdiction's program year.

Granted By: Cardell Cooper, Assistant Secretary for Community Planning and Development.

Date Granted: June 22, 2000.

Reasons Waived: The State advised that key staff responsible for preparing the report are taking new positions and the new staff will need additional time to prepare the document to ensure a complete and accurate report.

Contact: Cornelia Robertson-Terry, Office of Community Planning and Development, Department of Housing and Urban Development, 451 Seventh Street, SW., Room 7152, Washington, DC 20410, telephone (202) 708-2565.

• Regulation: 24 CFR 92.201(a)(2).

Project/Activity: San Mateo County Consortium requested a waiver to permit the County to assist those low-income residents of Daly City whose homes have been condemned as the result of unsafe conditions caused by the erosion of the properties. There are 22 properties involved.

Nature of Requirement: HUD's regulation at 24 CFR 92.201(a)(2) requires participating jurisdiction may only invest its HOME funds in eligible projects within its boundaries or in joint projects within the boundaries of contiguous local jurisdictions which serve residents from both jurisdictions.

Granted By: Cardell Cooper, Assistant Secretary for Community Planning and Development.

Date Granted: May 4, 2000.

Reasons Waived: San Mateo County Consortium provided justifications for its request. Because of the high cost of homes within San Mateo County (median price is currently $405,000) it would be impossible for low income residents, many of whom are senior citizens, to find replacement housing in the County.

Contact: Cornelia Robertson-Terry, Office of Community Planning and Development, Department of Housing and Urban Development, 451 Seventh Street, SW., Room 7152, Washington, DC 20410, telephone (202) 708-2565.

• Regulation: 24 CFR 570.207(b)(3).

Project/Activity: The Village of Greenport, NY requested a waiver of the provision which prohibits the construction of new housing.

Nature of Requirement: The CDBG regulations at 24 CFR 570.207(b)(3) prohibits new housing construction activities, subject to the specific exceptions identified.

Granted By: Cardell Cooper, Assistant Secretary for Community Planning and Development.

Date Granted: April 4, 2000.

Reasons Waived: Increasing the level of homeownership is a goal of HUD and the Administration, and assisting low and moderate income persons is the primary objective of the CDBG program. Failure to grant a waiver of this requirement would adversely affect the purposes of the Act.

Contact: Cornelia Robertson-Terry, Office of Community Planning and Development, Department of Housing and Urban Development, 451 Seventh Street, SW., Room 7152, Washington, DC 20410, telephone (202) 708-2565.

• Regulation: 24 CFR 576.21(b)(2).

Project/Activity: The State of New York requested a waiver of the thirty percent spending limitation on essential services.

Nature of Requirement: HUD's regulation at 24 CFR 576.21(b)(2) imposes the statutory requirement that no more than thirty percent of the Emergency Shelter Grant funds be expended for essential services. This regulatory section also notes that the statute (42 U.S.C. 11374) also permits waiver of this requirement if the grantee demonstrates that other eligible activities are already being carried out in the locality with other resources.

Granted By: Cardell Cooper, Assistant Secretary for Community Planning and Development.

Date Granted: April 7, 2000.

Reasons Waived: The State documented that there were other resources for eligible activities and this waiver would allow flexibility to shelter systems. The waiver allowed the State to use up to 60 percent of its Fiscal Year 2000 ESG funds for essential services.

Contact: Cornelia Robertson-Terry, Office of Community Planning and Development, Department of Housing and Urban Development, 451 Seventh Street, SW., Room 7152, Washington, DC 20410, telephone (202) 708-2565.

• Regulation: 24 CFR 576.21(b)(2).

Project/Activity: Morris County, NJ requested a waiver of the thirty percent spending limitation on essential services.

Nature of Requirement: HUD's regulation at 24 CFR 576.21(b)(2) imposes the statutory requirement that no more than thirty percent of the Emergency Shelter Grant funds be expended for essential services. This regulatory section also notes that the statute (42 U.S.C. 11374) also permits waiver of this requirement if the grantee demonstrates that other eligible activities are already being carried out in the locality with other resources.

Granted By: Cardell Cooper, Assistant Secretary for Community Planning and Development.

Date Granted: June 1, 2000.

Reasons Waived: Morris County documented that there were other resources for eligible activities and this waiver would allow flexibility to shelter systems. The waiver allowed the County to use up to 40 percent of its Fiscal Year 2000 ESG funds for essential services.

Contact: Cornelia Robertson-Terry, Office of Community Planning and Development, Department of Housing and Urban Development, 451 Seventh Street, SW., Room 7152, Washington, DC 20410, telephone (202) 708-2565.

• Regulation: 24 CFR 576.21(b)(2).

Project/Activity: The State of Wisconsin requested a waiver of the thirty percent spending limitation on essential services.

Nature of Requirement: HUD's regulation at 24 CFR 576.21(b)(2) imposes the statutory requirement that no more than thirty percent of the Emergency Shelter Grant funds be expended for essential services. This regulatory section also notes that the statute (42 U.S.C. 11374) also permits waiver of this requirement if the grantee demonstrates that other eligible activities are already being carried out in the locality with other resources.

Granted By: Cardell Cooper, Assistant Secretary for Community Planning and Development.

Date Granted: June 1, 2000.

Reasons Waived: The State documented that there were other resources for eligible activities and this waiver would allow flexibility. The waiver allowed the State to use up to 40 percent of its Fiscal Year 2000 ESG funds for essential services.

Contact: Cornelia Robertson-Terry, Office of Community Planning and Development, Department of Housing and Urban Development, 451 Seventh Street, SW., Room 7152, Washington, DC 20410, telephone (202) 708-2565.

• Regulation: 24 CFR 576.21(b)(2).

Project/Activity: The City of New York requested a waiver of the thirty percent spending limitation on essential services.

Nature of Requirement: HUD's regulation at 24 CFR 576.21(b)(2) imposes the statutory requirement that no more than thirty percent of the Emergency Shelter Grant funds be expended for essential services. This regulatory section also notes that the statute (42 U.S.C. 11374) also permits waiver of this requirement if the grantee demonstrates that other eligible activities are already being carried out in the locality with other resources.

Granted By: Cardell Cooper, Assistant Secretary for Community Planning and Development.

Date Granted: May 24, 2000.

Reasons Waived: The City provided sufficient justification that the City budgeted $399 million in non-ESG funding for private and public shelter operations and an additional $13 million for shelter construction and renovation. The waiver allowed the City to use up to 81 percent of its Fiscal Year 1999 ESG funds for essential services.

Contact: Cornelia Robertson-Terry, Office of Community Planning and Development, Department of Housing and Urban Development, 451 Seventh Street, SW., Room 7152, Washington, DC 20410, telephone (202) 708-2565.

• Regulation: 24 CFR 576.21(b)(2).

Project/Activity: The City of Chicago, Illinois requested a waiver of the thirty percent spending limitation on essential services.

Nature of Retirement: HUD's regulation at 24 CFR 576.21(b)(2) imposes the statutory requirement that no more than thirty percent of the Emergency Shelter Grant funds be expended for essential services. This regulatory section also notes that the statute (42 U.S.C. 11374) also permits waiver of this requirement if the grantee demonstrates that other eligible activities are already being carried out in the locality with other resources.

Granted By: Cardell Cooper, Assistance Secretary for Community Planning and Development.

Date Granted: May 24, 2000.

Reasons Waived: The City documented that there were other resources for eligible activities and this waiver would allow flexibility. The waiver allowed the City to use up to 60 percent of its Fiscal Year 2000 ESG funds for essential services.

Contact: Cornelia Robertson-Terry, Office of Community Planning and Development, Department of Housing and Urban Development, 451 Seventh Street, SW, Room 7152, Washington, DC 20410, telephone (202) 708-2565.

• Regulation: 24 CFR 574.310(d).

Project/Activity: The City of Denver, Colorado requested a waiver of the resident rent payment standard in the HOPWA regulation in order to establish a limit on the amount of assistance provided to the beneficiary.

Nature of Requirement: HUD's regulation at 24 CFR 574.310(d) establishes the rent payment standards for the HOPWA program as rent, including utilities which is the higher of 30 percent of the family's monthly adjusted income, 10 percent of the family's monthly gross income, or if the family is receiving payments for welfare assistance from a public agency, the portion of the payment that is designated.

Granted By: Cardell Cooper, Assistant Secretary for Community Planning and Development.

Date Granted: May 24, 2000.

Reasons Waived: The City provided documented information to support its need for establishing the limited short-term shallow rent program. The waiver is limited to the City's Fiscal Year's 1999 and 2000 formula grants and any formula grants issued for Fiscal Year 2001 and Fiscal Year 2002.

Contact: Cornelia Robertson-Terry, Office of Community Planning and Development, Department of Housing and Urban Development, 451 Seventh Street, SW, Room 7152, Washington, DC 20410, telephone (202) 708-2565.

• Regulation: 24 CFR 574.540.

Project/Activity: The City of Seattle, Washington requested authorization to make use of a limited amount of HOPWA formula funds for a period of time that will exceed the three year use period established by the HOPWA regulations.

Nature of Requirement: HUD's regulation at 24 CFR 574.540 requires that HOPWA funds be expended in a three year period. HUD may deobligate any amount of grant funds that have not been expended within a three-year period from the date of the signing of the grant agreement.

Granted By: Cardell Cooper, Assistant Secretary for Community Planning and Development.

Date Granted: June 9, 2000.

Reasons Waived: This waiver of the time limits will assist the City in helping to qualify persons living with HIV/AIDS and their families for assistance in housing developments projects that use the Low Income Housing Tax Credit (LIHTC) in financing. HUD found that there is good cause for this waiver since this will secure housing for individuals and families with HIV/AIDS. The amount of funds under this waiver are limited to a portion of the City's annual Fiscal Year allocation, so that no more than twenty percent, up to a maximum of $250,000 in any one fiscal year allocation, is committed to a tax credit project for up to a fifteen year period, measured from the date of the grant agreement for that allocation.

Contact: Cornelia Robertson-Terry, Office of Community Planning and Development, Department of Housing and Urban Development, 451 Seventh Street, SW, Room 7152, Washington, DC 20410, telephone (202) 708-2565.

II. Regulatory Waivers Granted by the Office of Community Planning and Development and the Office of Public and Indian Housing

For further information about the following waiver actions, please see the name of the contact person which immediately follows the description of the waiver granted.

• Regulation: 24 CFR 50.17 and 1000.20(a).

Project/Activity: The Lower Elwha Tribe and its Housing Authority, Port Angeles, WA, received a Traditional Indian Housing Development grant to construct 5 low rent homes.

Nature of Requirement: HUD's regulation at § 50.17 requires an environmental assessment and finding of no significant impact or an environmental impact statement be completed before the applicable decision points for projects not exempt or categorically excluded from environmental review requirements. HUD's regulation at § 1000.20(a) requires an environmental review be completed for any Native American Housing Assistance and Self-Determination Act project not excluded from review before a recipient may acquire, rehabilitate, convert, lease, repair or construct property, or commit HUD or local funds.

Granted By: Cardell Cooper, Assistant Secretary for Community Planning and Development, and Harold Lucas, Assistant Secretary for Public and Indian Housing.

Date Granted: May 11, 1999.

Reason Waived: The Lower Elwha Tribe made several errors during the environmental review and clearance process required by 24 CFR part 58 that resulted in the Housing Authority obligating and expending grant funds for the project before HUD's approval of the Request for Release of Funds and Certification, form HUD 7015.15. HUD made a determination based upon these actions to conduct an environmental review according to 24 CFR part 50. A HUD environmental review at this point would be after the Annual Contributions Contract for this project. Therefore, a waiver is necessary to allow HUD to conduct the review and resolve the issue. HUD also determined that no environmental degradation resulted from the regulatory noncompliance and that no mitigation activities would be necessary since no environmental damage or potential problems were identified. Considering the above, HUD determined that a waiver of the regulatory requirements would maintain the integrity of HUD's environmental review process and was consistent with Executive Order 12084 that encourages flexibility in the consideration of waiver requests from tribal governments.

Contact: Bruce Knott, Director, Office of Grants Evaluation, Office of Native American Programs, Department of Housing and Urban Development, 1999 Broadway, Suite 3390, Box 90, Denver, CO 80202, telephone (303) 675-1600.

• Regulation: 24 CFR 50.17 and 24 1000.20(a).

Project/Activity: The Lummi Tribe, Bellingham, WA, received a Traditional Indian Housing Development grant to construct 5 Mutual Help homeownership units.

Nature of Requirement: HUD's regulation at § 50.17 requires an environmental assessment and finding of no significant impact or an environmental impact statement be completed before the applicable decision points for projects not exempt or categorically excluded from environmental review requirements. HUD's regulation at § 1000.20(a) requires an environmental review be completed for any Native American Housing Assistance and Self-Determination Act project not excluded from review before a recipient may acquire, rehabilitate, convert, lease, repair or construct property, or commit HUD or local funds.

Granted By: Cardell Cooper, Assistant Secretary for Community Planning and Development, and Harold Lucas, Assistant Secretary for Public and Indian Housing.

Date Granted: September 15, 1999 by Mr. Cooper and July 30, 1999 by Mr. Lucas.

Reason Waived: The Lummi Tribe made several errors during the environmental review process required by 24 CFR part 58 that resulted in funds being obligated for the project before HUD's approval of the Request for Release of Funds and Certification, form HUD 7015.15. HUD made a determination based upon these actions to conduct an environmental review according to 24 CFR part 50. A HUD environmental review at this point would be after the Annual Contributions Contract. Therefore, a waiver is necessary to allow HUD to conduct the review and resolve the issue. HUD also determined that no environmental degradation resulted from the regulatory noncompliance and that no mitigation activities would be necessary since no environmental damage or potential problems were identified. Considering the above, HUD determined that a waiver of the regulatory requirements would maintain the integrity of HUD's environmental review process and was consistent with Executive Order 12084 that encourages flexibility in the consideration of waiver requests from tribal governments.

Contact: Bruce Knott, Director, Office of Grants Evaluation, Office of Native American Programs, Department of Housing and Urban Development, 1999 Broadway, Suite 3390, Box 90, Denver, CO 80202, telephone (303) 675-1600.

• Regulation: 24 CFR 50.17 and 24 CFR 1000.20(a).

Project/Activity: Jamestown S'Klallam Tribe, Sequim, WA, received grant funds for the acquisition of 23.5 acres at two sites for the development of low-income housing and a community water and sewer system.

Nature of Requirement: HUD's regulation at § 50.17 requires an environmental assessment and finding of no significant impact or an environmental impact statement be completed before the applicable decision points for projects which are not exempt or categorically excluded from environmental review requirements. HUD's regulation at § 1000.20(a) requires an environmental review be completed for any Native American Housing Assistance and Self-Determination Act project not excluded from review before a recipient may acquire, rehabilitate, convert, lease, repair or construct property, or commit HUD or local funds.

Granted By: Cardell Cooper, Assistant Secretary for Community Planning Development for § 50.17, and Harold Lucas, Assistant Secretary for Public and Indian Housing for § 1000.20(a).

Date Granted: April 25, 2000 by Mr. Cooper and May 5, 2000 by Mr. Lucas.

Reason Waived: The Jamestown S'Klallam Tribe made several errors during the environmental review process required by 24 CFR part 58 that resulted in funds being obligated for the project before HUD's approval of the Request for Release of Funds and Certification, form HUD 7015.15. HUD made a determination based upon these actions to conduct an environmental review according to 24 CFR part 50. A HUD environmental review at this point would be after the grant agreement. Therefore, a waiver is necessary to allow HUD to conduct the review and resolve the issue. HUD also determined that no environmental degradation resulted from the regulatory noncompliance and that no mitigation activities would be necessary since no environmental damage or potential problems were identified. Tribal staff has participated in two HUD sponsored environmental training sessions to obtain additional background information and expertise in the environmental review and clearance requirements. Considering the above, HUD determined that a waiver of the regulatory requirements would maintain the integrity of HUD's environmental review process and was consistent with Executive Order 12084 that encourages flexibility in the consideration of waiver requests from tribal governments.

Contact: Bruce Knott, Director, Office of Grants Evaluation, Office of Native American Programs, Department of Housing and Urban Development, 1999 Broadway, Suite 3390, Box 90, Denver, CO 80202, telephone (303) 675-1600.

III. Regulatory Waivers Granted by the Office of Housing

For further information about the following waiver actions, please see the name of the contact person which immediately follows the description of the waiver granted.

• Regulation: 24 CFR 202.3(c)(2)(iii).

Project/Activity: Credit Watch/Termination Threshold.

Nature of Requirement: HUD's regulation at 24 CFR 202.3(c)(2)(iii) provides that the Secretary may notify a mortgagee that it is on credit watch status if the mortgagee had a rate of defaults and claims on insured mortgages originated in an area which exceeded 150 percent, but not 200 percent, of the normal rate.

Granted by: William C. Apgar, Assistant Secretary for Housing-Federal Housing Commissioner.

Date Granted: June 12, 2000.

Reason Waived: Waiving the regulation permits HUD/FHA to initially focus on those lenders originating the worst performing loans. The waiver will adjust the Credit Watch threshold from being between 150% and 200.9% of the HUD field office default and claim rate to being between 200% and 300.9% of that rate. This waiver is limited to Credit Watch reviews conducted in the second quarter of calendar year 2000.

Contact: Joy L. Hadley, Director, Quality Assurance Division, Department of Housing and Urban Development, 451 Seventh Street, SW., Room B133-P3214, Washington, DC 20410-7000, telephone (202) 708-2830.

• Regulation: 24 CFR 203.49(c).

Project/Activity: Waiver of the requirements of 24 CFR 203.49(c) to extend the initial adjustment dates for adjustable rate mortgage (ARM) loans beyond the 12 to 18 month window currently provided for in the regulation.

Nature of Requirement: HUD's regulation at 24 CFR 203.49(c) provides that lenders may extend the initial interest rate adjustment dates on ARM loans thus rendering the loans eligible for placement in Ginnie Mae pools. Ineligibility of the loans for delivery to Ginnie Mae would result in financial hardship to the mortgagee and will not have an adverse impact on any mortgagors.

Granted by: William C. Apgar, Assistant Secretary for Housing-Federal Housing Commissioner.

Date Granted: May 19, 2000.

Reason Waived: Mortgagee, Corinthian Mortgage Corporation of Mission, Kansas, requested extensions of the initial change date for two ARM loans beyond the 12-18 month window period as required by 24 CFR 203.49(c). Approving the waiver enabled the lender to securitize the loans and rendered no harm to the borrowers or the Department.

Contact: Vance T. Morris, Director, Office of Single Family Program Development, Department of Housing and Urban Development, 451 7th Street, SW., Washington, DC 20410-7000, telephone: (202) 708-2700.

• Regulation: 24 CFR 206.19(d)(2) and 24 CFR 206.47(B).

Project/Activity: Waiver of the requirements of 24 CFR 206.19(d)(2) and 24 CFR 206.47(b) pertaining to the Home Equity Conversion (HECM) Program.

Nature of Requirement: The current HECM regulations limit the repairs completed after closing to 15% of the maximum claim amount. In addition, the escrow account must equal 150% of the required repairs. The regulations located at 24 CFR 206.19(d)(2) and 24 CFR 206.47(b) need to be waived in order to allow a borrower to avoid foreclosure by using the HECM loan program.

Granted by: William C. Apgar, Assistant Secretary for Housing-Federal Housing Commissioner.

Date Granted: June 29, 2000.

Reason Waived: Waiving the regulations cited above will provide assistance to the homeowner who is experiencing financial hardship. Without the waivers, the borrower is faced with the foreclosure of her current mortgage. This is not in keeping with the policy objectives of FHA which include assisting persons in maintaining homeownership.

Contact: Vance T. Morris, Director, Office of Single Family Program Development, Department of Housing and Urban Development, 451 7th Street, SW., Washington, DC 20410-7000, telephone: (202) 708-2700.

• Regulation: 24 CFR 234.3 and 234.26(f)(1) where it is cited as a limitation.

Project/Activity: Assisi, San Francisco Apartments, and La Providencia condominium projects in the Commonwealth of Puerto Rico.

Nature of Requirement: FHA insurance may not be placed on individual units in a condominium project converted from rental housing unless; (1) conversion occurred more than one year prior to application for insurance, (2) the mortgagor was a tenant at the time of conversion, (3) the conversion was sponsored by a bona fide tenants organization, or (4) certain events relating to application occurred before April 10, 1984. HUD's regulation at 24 CFR 234.3 defines conversion to mean the date on which all documents necessary to create a condominium under State law (and under local law, where applicable) have been recorded.

Granted by: William C. Apgar, Assistant Secretary for Housing-Federal Housing Commissioner.

Date Granted: May 16, 2000.

Reason Waived: Under the Commonwealth of Puerto Rico's inscription law the recordation process begins with presentment of the legal documents to create a condominium but due to backlogs may take several years to complete. The waiver acknowledged that essentially the condominium regime and all attending responsibilities were created at presentment. Granting the waiver permitted FHA mortgage insurance to be placed on units in the three projects one year from date of presentment. It also permitted those parties who qualified as tenants under 24 234.26(f)(1) to immediately obtain FHA mortgage insurance.

Contact: Vance T. Morris, Director, Office of Single Family Program Development, Department of Housing and Urban Development, 451 7th Street, SW., Washington, DC 20410-7000, telephone: (202) 708-2700.

• Regulation: 24 CFR 234.26(e)(3).

Project/Activity: Nantucket at Reston, Reston, VA.

Nature of Requirement: HUD's regulation at 24 CFR 234.26(e)(3) requires, in order for a condominium project to be acceptable to the Secretary, at least 51 percent of all family units (including units not covered by FHA-insured mortgages) must be occupied by the owners as a principal residence or a secondary residence (as the terms are defined in 24 CFR 203.18), or must have been sold to owners who intend to meet this occupancy requirement.

Granted by: William C. Apgar, Assistant Secretary for Housing-Federal Housing Commissioner.

Date Granted: June 23, 2000.

Reason Waived: Waiver was granted to allow FHA-mortgage insurance on a unit in a 56 unit development, bringing the owner-occupancy rate to 48.21 percent. The unit constituted affordable housing and will assist in augmenting housing available to households of low and moderate income.

Contact: Vance T. Morris, Director, Office of Single Family Program Development, Department of Housing and Urban Development, 451 Seventh Street, SW., Washington, DC 20410-7000, telephone (202) 708-2700.

• Regulation: 24 CFR 234.3 and 234.26(f)(1) where it is cited as a limitation.

Project/Activity: Panorama Plaza and New Center condominium projects in the Commonwealth of Puerto Rico.

Nature of Requirement: FHA insurance may not be placed on individual units in a condominium project converted from rental housing unless; (1) conversion occurred more than one year prior to application for insurance, (2) the mortgagor was a tenant at the time of conversion, (3) the conversion was sponsored by a bona fide tenants organization, or (4) certain events relating to application occurred before April 10, 1984. HUD's regulation at 24 CFR 234.3 defines conversion to mean the date on which all documents necessary to create a condominium under State law (and under local law, where applicable) have been recorded.

Granted by: William C. Apgar, Assistant Secretary for Housing-Federal Housing Commissioner.

Date Granted: May 16, 2000.

Reason Waived: Under the Commonwealth of Puerto Rico's inscription law the recordation process begins with presentment of the legal documents to create a condominium but due to backlogs may take several years to complete. The waiver acknowledged that essentially the condominium regime and all attending responsibilities were created at presentment. Granting the waiver permitted FHA mortgage insurance to be placed on individual units in the two projects one year from date of presentment.

Contact: Vance T. Morris, Director, Office of Single Family Program Development, Department of Housing and Urban Development, 451 Seventh Street, SW., Washington, DC 20410-7000, telephone: (202) 708-2700.

• Regulation: 24 CFR 891.100(d).

Project/Activity: Malta Manor, North Syracuse, New York, Project Number: 014-EE180/NY06-S981-014.

Nature of Requirement: HUD's regulation at 24 CFR 891.100(d) prohibits amendment of the amount of approved capital advance funds prior to initial closing.

Granted by: William C. Apgar, Assistant Secretary for Housing-Federal Housing Commissioner.

Date Granted: March 17, 2000.

Reason Waived: The project was modest in design, comparable in costs to other similar projects, and the Sponsor could not raise any additional funds nor had the capacity to provide any additional funds.

Contact: Willie Spearmon, Director, Office of Housing Assistance and Grant Administration, Department of Housing and Urban Development, 451 Seventh Street, SW., Washington, DC 20410-7000, telephone (202) 708-3000.

• Regulation: 24 CFR 891.100(d).

Project/Activity: Carson Place Apartments, Birmingham, Alabama, Project Number: 062-HDO38/AL09-Q981-001.

Nature of Requirement: HUD's regulation at 24 CFR 891.100(d) prohibits amendment of the amount of approved capital advance funds prior to initial closing.

Granted by: William C. Apgar, Assistant Secretary for Housing-Federal Housing Commissioner.

Date Granted: March 17, 2000.

Reason Waived: Construction costs had escalated and the Owner had secured additional funding from the State of Alabama.

Contact: Willie Spearmon, Director, Office of Housing Assistance and Grant Administration, Department of Housing and Urban Development, 451 Seventh Street, SW., Washington, DC 20410-7000, telephone (202) 708-3000.

• Regulation: 24 CFR 891.100(d).

Project/Activity: Webster Supportive Housing, Webster, Texas, Project Number: 114-HD012/TX24-Q961-001.

Nature of Requirement: HUD's regulation at 24 CFR 891.100(d) prohibits amendment of the amount of approved capital advance funds prior to initial closing.

Granted by: William C. Apgar, Assistant Secretary for Housing—Federal Housing Commissioner.

Date Granted: March 23, 2000.

Reason Waived: The project was economically designed, comparable to other similar projects developed in its jurisdiction, and the Sponsor had obtained additional funds from Houston Endowment but could not raise any additional funds.

Contact: Willie Spearmon, Director, Office of Housing Assistance and Grant Administration, Department of Housing and Urban Development, 451 Seventh Street, SW., Washington, DC 20410-7000, telephone (202) 708-3000.

• Regulation: 24 CFR 891.100(d).

Project/Activity: Diamond Heights Apartments, Onawa, Iowa, Project Number: 074-EE034/IA05-S981-002.

Nature of Requirement: HUD's regulation at 24 CFR 891.100(d) prohibits amendment of the amount of approved capital advance funds prior to initial closing.

Granted by: William C. Apgar, Assistant Secretary for Housing—Federal Housing Commissioner.

Date Granted: March 23, 2000.

Reason Waived: The project was modest in design, comparable to similar projects in the area, and the Sponsor/Owner had made every attempt to secure additional funding from outside sources.

Contact: Willie Spearmon, Director, Office of Housing Assistance and Grant Administration, Department of Housing and Urban Development, 451 Seventh Street, SW., Washington, DC 20410-7000, telephone (202) 708-3000.

• Regulation: 24 CFR 891.100(d).

Project/Activity: Stebbins Elder Housing Center, Inc., Nome, Alaska, Project Number: 176-EE012/AK06-S971-002.

Nature of Requirement: HUD's regulation at 24 CFR 891.100(d) prohibits amendment of the amount of approved capital advance funds prior to initial closing.

Granted by: William C. Apgar, Assistant Secretary for Housing—Federal Housing Commissioner.

Date Granted: March 28, 2000.

Reason Waived: The project was modest in design, comparable to similar projects in the area and the Sponsor/Owner had secured additional funding from outside sources totaling $193,000.

Contact: Willie Spearmon, Director, Office of Housing Assistance and Grant Administration, Department of Housing and Urban Development, 451 Seventh Street, SW., Washington, DC 20410-7000, telephone (202) 708-3000.

• Regulation: 24 CFR 891.100(d).

Project/Activity: Magnolia Manor, Macon, Georgia, Project Number: 061-EE075/GA06-S981-008.

Nature of Requirement: HUD's regulation at 24 CFR 891.100(d) prohibits amendment of the amount of approved capital advance funds prior to initial closing.

Granted by: William C. Apgar, Assistant Secretary for Housing—Federal Housing Commissioner.

Date Granted: April 3, 2000.

Reason Waived: The labor and construction material costs had risen dramatically because the market for both single family and multifamily housing in the Atlanta area was among the highest in the nation, the design was cost efficient and the Sponsor/Owner had put forth reasonable effort to reduce the cost of construction as well as to secure funds from other sources.

Contact: Willie Spearmon, Director, Office of Housing Assistance and Grant Administration, Department of Housing and Urban Development, 451 Seventh Street, SW., Washington, DC 20410-7000, telephone (202) 708-3000.

• Regulation: 24 CFR 891.100(d).

Project/Activity: Central Park Senior Residences, Wichita, Kansas, Project Number: 102-EE022/KS16-S981-001.

Nature of Requirement: HUD's regulation at 24 CFR 891.100(d) prohibits amendment of the amount of approved capital advance funds prior to initial closing.

Granted by: William C. Apgar, Assistant Secretary for Housing—Federal Housing Commissioner.

Date Granted: April 3, 2000.

Reason Waived: Increased construction activity in Wichita, Kansas, had driven up the cost of materials and labor, the Sponsor had diligently pursued cost cutting measures and could not raise any additional funds beyond the grants that they have obtained nor do they have the capacity to provide any funds.

Contact: Willie Spearmon, Director, Office of Housing Assistance and Grant Administration, Department of Housing and Urban Development, 451 Seventh Street, SW, Washington, DC 20410-7000, telephone (202) 708-3000.

• Regulation: 24 CFR 891.100(d).

Project/Activity: Kinbrook Apartments, Kansas City, Missouri, Project Number: 084-HD024/MO16-Q981-001.

Nature of Requirement: HUD's regulation at 24 CFR 891.100(d) prohibits amendment of the amount of approved capital advance funds prior to initial closing.

Granted by: William C. Apgar, Assistant Secretary for Housing—Federal Housing Commissioner.

Date Granted: April 3, 2000.

Reason Waived: Increased construction activity in Kansas City, Missouri, had driven up the cost of materials and labor, the Sponsor had diligently pursued cost cutting measures and could not raise any additional funds beyond the grants that they had obtained nor did they have the capacity to provide any funds.

Contact: Willie Spearmon, Director, Office of Housing Assistance and Grant Administration, Department of Housing and Urban Development, 451 Seventh Street, SW, Washington, DC 20410-7000, telephone (202) 708-3000.

• Regulation: 24 CFR 891.100(d).

Project/Activity: ASI/Springfield Supportive Housing, Springfield, Virginia, Project Number: 084-HDO25/MO16-Q981-002.

Nature of Requirement: HUD's regulation at 24 CFR 891.100(d) prohibits amendment of the amount of approved capital advance funds prior to initial closing.

Granted by: William C. Apgar, Assistant Secretary for Housing—Federal Housing Commissioner.

Date Granted: April 3, 2000.

Reason Waived: The project had experienced development team members, the Sponsor had diligently pursued cost cutting measures, and could not raise any additional funds beyond the grants that they had obtained nor did they have the capacity to provide any funds.

Contact: Willie Spearmon, Director, Office of Housing Assistance and Grant Administration, Department of Housing and Urban Development, 451 Seventh Street, SW, Washington, DC 20410-7000, telephone (202) 708-3000.

• Regulation: 24 CFR 891.100(d).

Project/Activity: Springfield Gardens, Warner Robins, Georgia, Project Number: 061-EE073/GA06-S981-006.

Nature of Requirement: HUD's regulation at 24 CFR 891.100(d) prohibits amendment of the amount of approved capital advance funds prior to initial closing.

Granted by: William C. Apgar, Assistant Secretary for Housing—Federal Housing Commissioner.

Date Granted: April 3, 2000.

Reason Waived: Labor and construction material costs had risen dramatically because the market for both single family and multifamily housing in the Atlanta area was among the highest in the nation and the Sponsor/Owner had put forth extensive effort to reduce the cost of construction as well as to secure funds from other sources.

Contact: Willie Spearmon, Director, Office of Housing Assistance and Grant Administration, Department of Housing and Urban Development, 451 Seventh Street, SW, Washington, DC 20410-7000, telephone (202) 708-3000.

• Regulation: 24 CFR 891.100(d).

Project/Activity: Ailbe III, Chicago, Illinois, Project Number: 071—HD108/IL06-Q971-008.

Nature of Requirement: HUD's regulation at 24 CFR 891.100(d) prohibits amendment of the amount of approved capital advance funds prior to initial closing.

Granted by: William C. Apgar, Assistant Secretary for Housing—Federal Housing Commissioner.

Date Granted: April 17, 2000.

Reason Waived: Despite numerous bids, the Owner was unable to secure a contractor to build the property for the amount of the fund reservation, the property received $400,000 from the Federal Home Loan Bank, and the project was modestly designed as well comparable to other similar projects.

Contact: Willie Spearmon, Director, Office of Housing Assistance and Grant Administration, Department of Housing and Urban Development, 451 Seventh Street, SW, Washington, DC 20410-7000, telephone (202) 708-3000.

• Regulation: 24 CFR 891.100(d).

Project/Activity: Vista Alegre Apartments, Miami, Florida, Project Number: 066-EE067/FL29-S981-008.

Nature of Requirement: HUD's regulation at 24 CFR 891.100(d) prohibits amendment of the amount of approved capital advance funds prior to initial closing.

Granted by: William C. Apgar, Assistant Secretary for Housing-Federal Housing Commissioner.

Date Granted: May 2, 2000.

Reason Waived: The Sponsor had exhausted all efforts to provide the funds from other sources and the project was economically designed as well as being comparable to other similar projects developed in the area.

Contact: Willie Spearmon, Director, Office of Housing Assistance and Grant Administration, Department of Housing and Urban Development, 451 Seventh Street, SW, Washington, DC 20410-7000, telephone (202) 708-3000.

• Regulation: 24 CFR 891.100(d).

Project/Activity: Bethlehem Housing, Hudson, Florida, Project Number: 067-EE089/FL29-S981-005.

Nature of Requirement: HUD's regulation at 24 CFR 891.100(d) prohibits amendment of the amount of approved capital advance funds prior to initial closing.

Granted by: William C. Apgar, Assistant Secretary for Housing—Federal Housing Commissioner.

Date Granted: May 31, 2000.

Reason Waived: The Sponsor/Owner had exhausted all efforts to secure secondary funding from outside sources and the project was economically designed and comparable to similar projects developed in the area.

Contact: Willie Spearmon, Director, Office of Housing Assistance and Grant Administration, Department of Housing and Urban Development, 451 Seventh Street, SW, Washington, DC 20410-7000, telephone (202) 708-3000.

• Regulation: 24 CFR 891.100(d).

Project/Activity: Riverview St. Mary's, Knoxville, Tennessee, Project Number: 087-EE030/TN37-S971-001.

Nature of Requirement: HUD's regulation at 24 CFR 891.100(d) prohibits amendment of the amount of approved capital advance funds prior to initial closing.

Granted by: William C. Apgar, Assistant Secretary for Housing—Federal Housing Commissioner.

Date Granted: May 31, 2000.

Reason Waived: The project was comparable to three other projects, was economically designed, and the Sponsor had committed $370,296 to the project.

Contact: Willie Spearmon, Director, Office of Housing Assistance and Grant Administration, Department of Housing and Urban Development, 451 Seventh Street, SW, Washington, DC 20410-7000, telephone (202) 708-3000.

• Regulation: 24 CFR 891.100(d).

Project/Activity: Hillside Village II, Martha's Vineyard, Massachusetts, Project Number: 023-EE086.

Nature of Requirement: HUD's regulation at 24 CFR 891.100(d) prohibits amendment of the amount of approved capital advance funds prior to initial closing.

Granted by: William C. Apgar, Assistant Secretary for Housing—Federal Housing Commissioner.

Date Granted: June 5, 2000.

Reason Waived: The Sponsor/Owner had exhausted all available resources, the project was modest in design, and the development costs were comparable to similar projects developed in the area.

Contact: Willie Spearmon, Director, Office of Housing Assistance and Grant Administration, Department of Housing and Urban Development, 451 Seventh Street, SW, Washington, DC 20410-7000, telephone (202) 708-3000.

• Regulation: 24 CFR 891.100(d).

Project/Activity: St. Sharbel Apartments, Peoria, Illinois, Project Number: 072-EE135/IL06-S981-001.

Nature of Requirement: HUD's regulation at 24 CFR 891.100(d) prohibits amendment of the amount of approved capital advance funds prior to initial closing.

Granted by: William C. Apgar, Assistant Secretary for Housing—Federal Housing Commissioner.

Date Granted: June 14, 2000.

Reason Waived: The project was modest in design, comparable to similar projects in the area, and the Sponsor/Owner had made every attempt to secure additional funding from outside sources.

Contact: Willie Spearmon, Director, Office of Housing Assistance and Grant Administration, Department of Housing and Urban Development, 451 Seventh Street, SW, Washington, DC 20410-7000, telephone (202) 708-3000.

• Regulation: 24 CFR 891.100(d).

Project/Activity: Woodside Village II, Martha's Vineyard, Massachusetts, Project Number: 023-EE087.

Nature of Requirement: HUD's regulation at 24 CFR 891.100(d) prohibits amendment of the amount of approved capital advance funds prior to initial closing.

Granted by: William C. Apgar, Assistant Secretary for Housing—Federal Housing Commissioner.

Date Granted: June 22, 2000.

Reason Waived: The Sponsor/Owner had exhausted all available resources, the project was modest in design, and the development costs were comparable to similar projects developed in the area.

Contact: Willie Spearmon, Director, Office of Housing Assistance and Grant Administration, Department of Housing and Urban Development, 451 Seventh Street, SW, Washington, DC 20410-7000, telephone (202) 708-3000.

• Regulation: 24 CFR 891.100(d).

Project/Activity: A.C. Ware Manor, Buffalo, New York, Project Number: 014-EE181/NY06-S981-015.

Nature of Requirement: HUD's regulation at 24 CFR 891.100(d) prohibits amendment of the amount of approved capital advance funds prior to initial closing.

Granted by: William C. Apgar, Assistant Secretary for Housing—Federal Housing Commissioner.

Date Granted: June 22, 2000.

Reason Waived: The Owner received a $65,000 grant from the Buffalo Urban Renewal Agency, the project was comparable in cost to similar projects, and the Sponsor could not contribute any additional funds.

Contact: Willie Spearmon, Director, Office of Housing Assistance and Grant Administration, Department of Housing and Urban Development, 451 Seventh Street, SW, Washington, DC 20410-7000, telephone (202) 708-3000.

• Regulation: 24 CFR 891.100(d).

Project/Activity: Sinnissippi Centers, Inc., Mt. Carroll, Illinois, Project Number: 071-HD109/IL06-Q981-002.

Nature of Requirement: HUD's regulation at 24 CFR 891.100(d) prohibits amendment of the amount of approved capital advance funds prior to initial closing.

Granted by: William C. Apgar, Assistant Secretary for Housing—Federal Housing Commissioner.

Date Granted: June 22, 2000.

Reason Waived: The project was modestly designed and comparable to similar projects in the area, and the Sponsor/Owner utilized all available funding sources.

Contact: Willie Spearmon, Director, Office of Housing Assistance and Grant Administration, Department of Housing and Urban Development, 451 Seventh Street, SW, Washington, DC 20410-7000, telephone (202) 708-3000.

• Regulation: 24 CFR 891.100(d).

Project/Activity: Freedom House, Montgomery County, Pennsylvania, Project Number: 034-HD049/PA26-Q971-001.

Nature of Requirement: HUD's regulation at 24 CFR 891.100(d) prohibits amendment of the amount of approved capital advance funds prior to initial closing.

Granted by: William C. Apgar, Assistant Secretary for Housing—Federal Housing Commissioner.

Date Granted: June 22, 2000.

Reason Waived: The increased costs were due in part to design modifications required by the local government and the Owner had exhausted all resources to raise any additional funds.

Contact: Willie Spearmon, Director, Office of Housing Assistance and Grant Administration, Department of Housing and Urban Development, 451 Seventh Street, SW, Washington, DC 20410-7000, telephone (202) 708-3000.

• Regulation: 24 CFR 891.100(d).

Project/Activity: Sunshine Village, Slidell, Louisiana, Project Number: 064-HD043/LA48-Q981-002.

Nature of Requirement: HUD's regulation at 24 CFR 891.100(d) prohibits amendment of the amount of approved capital advance funds prior to initial closing.

Granted by: William C. Apgar, Assistant Secretary for Housing—Federal Housing Commissioner.

Date Granted: June 28, 2000.

Reason Waived: The project was modestly designed and comparable to similar projects in the area, and the Sponsor/Owner had exhausted all means of obtaining additional funds for this project.

Contact: Willie Spearmon, Director, Office of Housing Assistance and Grant Administration, Department of Housing and Urban Development, 451 Seventh Street, SW, Washington, DC 20410-7000, telephone (202) 708-3000.

• Regulation: 24 CFR 891.100(d) and 891.165.

Project/Activity: Cross Lanes Unity Apartments, Charleston, West Virginia, Project Number: 045-EE009/WV15-S961-001

Nature of Requirement: HUD's regulation at 24 CFR 891.100(d) prohibits amendment of the amount of approved capital advance funds prior to initial closing. HUD's regulation at 24 CFR 891.165 provides that the duration of the fund reservations for the capital advance is 18 months from the date of issuance with limited exceptions up to 24 months, as approved by HUD on a case-by-case basis.

Granted by: William C. Apgar, Assistant Secretary for Housing—Federal Housing Commissioner.

Date Granted: March 17, 2000.

Reason Waived: Delays occurred because the Owner needed additional time to resolve funding shortfalls so the project would be financially feasible. The project is economically designed, comparable to similar projects, and the Sponsor has obtained significant additional funding from other resources.

Contact: Willie Spearmon, Director, Office of Housing Assistance and Grant Administration, Department of Housing and Urban Development, 451 Seventh Street, SW, Washington, DC 20410-7000, telephone (202) 708-3000.

• Regulation: 24 CFR 891.100(d) and 891.165.

Project/Activity: Charles Street Village, Cotati, California, Project Number: 121-EE105/CA39-S971-004.

Nature of Requirement: HUD's regulation at 24 CFR 891.100(d) prohibits amendment of the amount of approved capital advance funds prior to initial closing. HUD's regulation at 24 CFR 891.165 provides that the duration of the fund reservations for the capital advance is 18 months from the date of issuance with limited exceptions up to 24 months, as approved by HUD on a case-by-case basis.

Granted by: William C. Apgar, Assistant Secretary for Housing—Federal Housing Commissioner.

Date Granted: March 23, 2000.

Reason Waived: There was a six-month delay with final design development due to the City of Cotati's decision to create a land use “master plan” for the neighborhood which included the Charles Street Village site and the Owner had to seek outside funding due to the higher than expected construction costs.

Contact: Willie Spearmon, Director, Office of Housing Assistance and Grant Administration, Department of Housing and Urban Development, 451 Seventh Street, SW, Washington, DC 20410-7000, telephone (202) 708-3000.

• Regulation: 24 CFR 891.100(d) and 891.165.

Project/Activity: Eaton Knolls, Suffolk County, New York, Project Number: 012-HD076/NY36-Q971-005.

Nature of Requirement: HUD's regulation at 24 CFR 891.100(d) prohibits amendment of the amount of approved capital advance funds prior to initial closing. HUD's regulation at 24 CFR 891.165 provides that the duration of the fund reservations for the capital advance is 18 months from the date of issuance with limited exceptions up to 24 months, as approved by HUD on a case-by-case basis.

Granted by: William C. Apgar, Assistant Secretary for Housing—Federal Housing Commissioner.

Date Granted: April 3, 2000.

Reason Waived: Delays occurred because the Owner was seeking a general contractor who could build the project within reasonable development cost limits. The project is economically designed, comparable to other similar projects and the Owners have exhausted all efforts to obtain the funds from other sources.

Contact: Willie Spearmon, Director, Office of Housing Assistance and Grant Administration, Department of Housing and Urban Development, 451 Seventh Street, SW, Washington, DC 20410-7000, telephone (202) 708-3000.

• Regulation: 24 CFR 891.100(d) and 891.165.

Project/Activity: Southeast Wyoming Mental Health Center, Cheyenne, Wyoming, Project Number: 109-HD010/WY99-Q981-002.

Nature of Requirement: HUD's regulation at 24 CFR 891.100(d) prohibits amendment of the amount of approved capital advance funds prior to initial closing. HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: April 17, 2000.

Reason Waived: The Sponsor/Owner was inexperienced with the program and required additional processing time. The project is modest in design, comparable to similar projects and the Owner has exhausted every effort to find the funds from others sources.

Contact: Willie Spearmon, Director, Office of Housing Assistance and Grant Administration, Department of Housing and Urban Development, 451 Seventh Street, SW, Washington, DC 20410-7000, telephone (202) 708-3000.

• Regulation: 24 CFR 891.100(d) and 891.165.

Project/Activity: Presbyterian Homes at West Windsor, West Windsor, New Jersey, Project Number: 035-EE022/NJ39-S961-001.

Nature of Requirement: HUD's regulation at 24 CFR 891.100(d) prohibits amendment of the amount of approved capital advance funds prior to initial closing. HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: April 17, 2000.

Reason Waived: Delays occurred because the Sponsor/Owner required additional time to secure secondary funding. The project is modest in design, comparable to similar projects and the owner has exhausted every effort to obtain the funds from other sources.

Contact: Willie Spearmon, Director, Office of Housing Assistance and Grant Administration, Department of Housing and Urban Development, 451 Seventh Street, SW, Washington, DC 20410-7000, telephone (202) 708-3000.

• Regulation: 24 CFR 891.100(d) and 891.165.

Project/Activity: Casita Park Housing for the Elderly, Manhattan, New York, Project Number: 012-EE191/NY36-S961-009.

Nature of Requirement: HUD's regulation at 24 CFR 891.100(d) prohibits amendment of the amount of approved capital advance funds prior to initial closing. HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: May 9, 2000.

Reason Waived: The Owner encountered a long delay during the environmental and site conveyance reviews by New York City. The project is economically designed, comparable to other similar projects and all possible efforts have been exhausted to obtain the funds from other sources.

Contact: Willie Spearmon, Director, Office of Housing Assistance and Grant Administration, Department of Housing and Urban Development, 451 Seventh Street, SW, Washington, DC 20410-7000, telephone (202) 708-3000.

• Regulation: 24 CFR 891.165.

Project/Activity: Lakeland Manor, Santa Fe Springs, California, Project Number: 122-HDO89/CA16-Q961-005. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: March 17, 2000.

Reason Waived: The Sponsor had to change sites, the new site was included in a Master plan that required approval from Los Angeles County, and the Sponsor had to obtain gap financing from the County.

Contact: Willie Spearmon, Director, Office of Housing Assistance and Grant Administration, Department of Housing and Urban Development, 451 Seventh Street, SW, Washington, DC 20410-7000, telephone (202) 708-3000.

• Regulation: 24 CFR 891.165.

Project/Activity: Riverview St. Mary's, Knoxville, Tennessee, Project Number: 087-EE030/TN37-S971-001. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: March 17, 2000.

Reason Waived: The Sponsor/Owner was experiencing difficulty in obtaining the 501(c)3 determination from the IRS, had solicited bids from 3 different contractors, and had not been able to secure a bid within the allowed capital advance.

Contact: Willie Spearmon, Director, Office of Housing Assistance and Grant Administration, Department of Housing and Urban Development, 451 Seventh Street, SW, Washington, DC 20410-7000, telephone (202) 708-3000.

• Regulation: 24 CFR 891.165.

Project/Activity: Marigold Place, Baltimore, Maryland, Project Number: 000-HDO34/DC39-Q971-001. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing—Federal Housing Commissioner.

Date Granted: March 17, 2000.

Reason Waived: The Sponsor had to re-negotiate with the contractor to bring the cost down to within the amount of the fund reservation.

Contact: Willie Spearmon, Director, Office of Housing Assistance and Grant Administration, Department of Housing and Urban Development, 451 Seventh Street, SW, Washington, DC 20410-7000, telephone (202) 708-3000.

• Regulation: 24 CFR 891.165.

Project/Activity: The Summerdale Court, Clairton, Pennsylvania, Project Number: 033-HDO39/PA28-Q971-001. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing—Federal Housing Commissioner.

Date Granted: March 17, 2000.

Reason Waived: The Owner was pursuing legal action against the City of Clairton because the city refused to approve a conditional use permit necessary to construct the development.

Contact: Willie Spearmon, Director, Office of Housing Assistance and Grant Administration, Department of Housing and Urban Development, 451 Seventh Street, SW, Washington, DC 20410-7000, telephone (202) 708-3000.

• Regulation: 24 CFR 891.165.

Project/Activity: MSAA V, Cleveland, Ohio, Project Number: 042-HDO71/OH12-Q971-003. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing—Federal Housing Commissioner.

Date Granted: March 17, 2000.

Reason Waived: Time was needed for the Sponsor to locate a suitable site, submit the Firm Commitment application, and for HUD to process the application and review the initial closing documents.

Contact: Willie Spearmon, Director, Office of Housing Assistance and Grant Administration, Department of Housing and Urban Development, 451 Seventh Street, SW, Washington, DC 20410-7000, telephone (202) 708-3000.

• Regulation: 24 CFR 891.165.

Project/Activity: Carbondale Supportive Housing, Inc., Carbondale, Illinois, Project Number: 072-HD101/IL06-Q971-001. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing—Federal Housing Commissioner.

Date Granted: March 20, 2000.

Reason Waived: The project had to be redesigned to fit a smaller parcel of land which caused delays.

Contact: Willie Spearmon, Director, Office of Housing Assistance and Grant Administration, Department of Housing and Urban Development, 451 Seventh Street, SW, Washington, DC 20410-7000, telephone (202) 708-3000.

• Regulation: 24 CFR 891.165.

Project/Activity: La Cieneguita Elderly Housing, Santa Fe, New Mexico, Project Number: 116-EE015/NM16-S971-002. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing—Federal Housing Commissioner.

Date Granted: April 1, 2000.

Reason Waived: The project was delayed because the owner had to find a new site.

Contact: Willie Spearmon, Director, Office of Housing Assistance and Grant Administration, Department of Housing and Urban Development, 451 Seventh Street, SW., Washington, DC 20410-7000, telephone (202) 708-3000.

• Regulation: 24 CFR 891.165.

Project/Activity: Clifton Consumer Home, Clifton, New Jersey, Project Number: 031-HD086/NJ39-Q971-001. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing—Federal Housing Commissioner.

Date Granted: April 3, 2000.

Reason Waived: The Sponsor/Owner had difficulty securing a site and the Newark Multifamily Program Center needed additional time for technical processing.

Contact: Willie Spearmon, Director, Office of Housing Assistance and Grant Administration, Department of Housing and Urban Development, 451 Seventh Street, SW, Washington, DC 20410-7000, telephone (202) 708-3000.

• Regulation: 24 CFR 891.165.

Project/Activity: Riley Cheeks House, Baltimore, Maryland, Project Number: 000-HD030/DC39-Q961-001. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: April 3, 2000.

Reason Waived: The Chesapeake Hub needed time to issue the Firm Commitment.

Contact: Willie Spearmon, Director, Office of Housing Assistance and Grant Administration, Department of Housing and Urban Development, 451 Seventh Street, SW, Washington, DC 20410-7000, telephone (202) 708-3000.

• Regulation: 24 CFR 891.165.

Project/Activity: Westminster Woods II, Bogalusa, Louisiana, Project Number: 064-EE073/LA48-S961-015. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: April 3, 2000.

Reason Waived: There was a delay in transferring the site from the Sponsor to the Borrower.

Contact: Willie Spearmon, Director, Office of Housing Assistance and Grant Administration, Department of Housing and Urban Development, 451 Seventh Street, SW, Washington, DC 20410-7000, telephone (202) 708-3000.

• Regulation: 24 CFR 891.165.

Project/Activity: Franciscan House, Monroe, Louisiana, Project Number: 064-HD037/LA48-Q961-003. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: April 3, 2000.

Reason Waived: The architect could not prepare the plans and specifications in a timely manner due to his workload.

Contact: Willie Spearmon, Director, Office of Housing Assistance and Grant Administration, Department of Housing and Urban Development, 451 Seventh Street, SW, Washington, DC 20410-7000, telephone (202) 708-3000.

• Regulation: 24 CFR 891.165.

Project/Activity: VOA Riverside 10, Fort Worth, Texas, Project Number: 116-HD015. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: April 3, 2000.

Reason Waived: The Sponsor had to find a new site because of zoning problems.

Contact: Willie Spearmon, Director, Office of Housing Assistance and Grant Administration, Department of Housing and Urban Development, 451 Seventh Street, SW, Washington, DC 20410-7000, telephone (202) 708-3000.

• Regulation: 24 CFR 891.165.

Project/Activity: Waterloo House, Los Angeles, California, Project Number: 122-HD107/CA16-Q97l-013. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing—Federal Housing Commissioner.

Date Granted: April 3, 2000.

Reason Waived: The Sponsor required additional time to complete the final construction documents, acquire the building site, and secure secondary financing.

Contact: Willie Spearmon, Director, Office of Housing Assistance and Grant Administration, Department of Housing and Urban Development, 451 Seventh Street, SW, Washington, DC 20410-7000, telephone (202) 708-3000.

• Regulation: 24 CFR 891.165.

Project/Activity: Bethel Towers, Tallahassee, Florida, Project Number: 063-EE016/FL29-S971-002; Cape Coral Home, Cape Coral, Florida, Project Number: 066-HDO38/FL29-Q971-005; Citrus Gardens, Orlando, Florida, Project Number: 067-EE082/FL29-S971-008; Matthews Corner, Tampa, Florida, Project Number: 067-HD053/FL29-Q971-007. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: April 6, 2000.

Reason Waived: Bethel Towers—The project had experienced delays after the City required changes to the project's plans. Cape Coral Home—The project had been delayed due to the Sponsor's lack of experience. Citrus Gardens—The project experienced delays due to issues with the City of Orlando in obtaining a building permit. Matthews Corner—The project had been delayed due to the Owner having to address concerns raised by neighborhood residents over the project's entrance.

Contact: Willie Spearmon, Director, Office of Housing Assistance and Grant Administration, Department of Housing and Urban Development, 451 Seventh Street, SW, Washington, DC 20410-7000, telephone (202) 708-3000.

• Regulation: 24 CFR 891.165.

Project/Activity: Castleton Manor, New York, New York, Project Number: 012-EE221/NY36-S971-008. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing—Federal Housing Commissioner.

Date Granted: April 17, 2000.

Reason Waived: Additional time was needed to allow the HUD closing attorney sufficient time to review the closing documents, order the check and schedule the initial closing.

Contact: Willie Spearmon, Director, Office of Housing Assistance and Grant Administration, Department of Housing and Urban Development, 451 Seventh Street, SW, Washington, DC 20410-7000, telephone (202) 708-3000.

• Regulation: 24 CFR 891.165.

Project/Activity: Jefferson Cottage, Incorporated, Martinsburg, West Virginia, Project Number: 045-HD021/WV15-Q961-003. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing—Federal Housing Commissioner.

Date Granted: April 17, 2000.

Reason Waived: The Owner encountered significant delays in regard to subdivision approval and an Easement/Maintenance Agreement for paving of an access road.

Contact: Willie Spearmon, Director, Office of Housing Assistance and Grant Administration, Department of Housing and Urban Development, 451 Seventh Street, SW, Washington, DC 20410-7000, telephone (202) 708-3000.

• Regulation: 24 CFR 891.165.

Project/Activity: St. Anthony Homes, Baltimore, Maryland, Project Number: 052-HDO29/MD06-Q971-003. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: April 17, 2000.

Reason Waived: Additional time was needed to resolve zoning problems.

Contact: Willie Spearmon, Director, Office of Housing Assistance and Grant Administration, Department of Housing and Urban Development, 451 Seventh Street, SW, Washington, DC 20410-7000, telephone (202) 708-3000.

• Regulation: 24 CFR 891.165.

Project/Activity: Our Lady of Mercy Senior Manor, New York, New York, Project Number: 012-EE219/NY36-S971-006. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: April 17, 2000.

Reason Waived: Additional time was needed to allow the HUD closing attorney sufficient time to review the closing documents, order the check and schedule the initial closing.

Contact: Willie Spearmon, Director, Office of Housing Assistance and Grant Administration, Department of Housing and Urban Development, 451 Seventh Street, SW, Washington, DC 20410-7000, telephone (202) 708-3000.

• Regulation: 24 CFR 891.165.

Project/Activity: Geer Village, North Canaan, Connecticut, Project Number: 017-EE035/CT26-S971-003. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: April 17, 2000.

Reason Waived: The Sponsor pursued additional funding from another source.

Contact: Willie Spearmon, Director, Office of Housing Assistance and Grant Administration, Department of Housing and Urban Development, 451 Seventh Street, SW, Washington, DC 20410-7000, telephone (202) 708-3000.

• Regulation: 24 CFR 891.165.

Project/Activity: Randolph Neighborhood, Randolph, Vermont, Project Number: 024-EE034/VT36-S961-002. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: April 17, 2000.

Reason Waived: The source of funds needed to meet the cash requirement for initial closing fell through and the Sponsor/Owner needed additional time to secure other funding.

Contact: Willie Spearmon, Director, Office of Housing Assistance and Grant Administration, Department of Housing and Urban Development, 451 Seventh Street, SW, Washington, DC 20410-7000, telephone (202) 708-3000.

• Regulation: 24 CFR 891.165.

Project/Activity: Highview Unity Apartments, Inc., Charleston, West Virginia, Project Number: 045-EE010/WV15-S971-001. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: April 17, 2000.

Reason Waived: The Sponsor needed more time to seek additional funds since the contractor raised the construction cost on February 14, 2000.

Contact: Willie Spearmon, Director, Office of Housing Assistance and Grant Administration, Department of Housing and Urban Development, 451 Seventh Street, SW, Washington, DC 20410-7000, telephone (202) 708-3000.

• Regulation: 24 CFR 891.165.

Project/Activity: Olympic Plaza Senior Housing, Los Angeles, California, Project Number: 122-EE122/CA16-S971-007. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: April 17, 2000.

Reason Waived: The City and County of Los Angeles required additional time to prepare and submit loan agreements to HUD for approval.

Contact: Willie Spearmon, Director, Office of Housing Assistance and Grant Administration, Department of Housing and Urban Development, 451 Seventh Street, SW, Washington, DC 20410-7000, telephone (202) 708-3000.

• Regulation: 24 CFR 891.165.

Project/Activity: West Hamlin Unity Place, Incorporated, West Hamlin, West Virginia, Project Number: 045-HD026/WV15-Q971-002. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: April 17, 2000.

Reason Waived: The Owner was in the process of resolving a concern with the property deed which had unacceptable restrictive covenants and a right of reverter. The restrictive covenant and right of reverter were unacceptable and had to be removed.

Contact: Willie Spearmon, Director, Office of Housing Assistance and Grant Administration, Department of Housing and Urban Development, 451 Seventh Street, SW., Washington, DC 20410-7000, telephone (202) 708-3000.

• Regulation: 24 CFR 891.165.

Project/Activity: St.Peter's Place II, Phoenixville, Pennsylvania, Project Number: 034-EE070/PA26-S971-002; Guild House West II, Philadelphia, Pennsylvania, Project Number: 034-EE072/PA26-S971-004; Connections Community Support Program, Wilmington, Delaware, Project Number: 032-HD018/DE26-Q961-004; Freedom House, Royersford, Pennsylvania, Project Number: 034-HDO49/PA26-Q971-001; Rudolph Mercy Douglas, Philadelphia, Pennsylvania, Project Number: 034-HD052/PA26-Q971-004. Request for fund reservation.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: April 17, 2000.

Reason Waived: St. Peter's Place II—Project delays were due to making design alterations to reduce project costs, and then raising money from a variety of sources to meet most of the remaining financial shortfall. Guild House West II—The Sponsor needed additional time to submit the draft closing documents and secondary financing documents outlining the terms and conditions. Connections Community Support Program—Delays were due to flaws in the architectural plans for rehabilitating the property which resulted in the hiring of a new architect. Freedom House—Delays were due to the Sponsor seeking outside funding sources to help cover project shortfalls as a result of an increase in the Davis Bacon wage rates. Rudolph Mercy Douglas—Delays were due to the Sponsor's inexperience in meeting development standards and time frames for this type of project.

Contact: Willie Spearmon, Director, Office of Housing Assistance and Grant Administration, Department of Housing and Urban Development, 451 Seventh Street, SW., Washington, DC 20410-7000, telephone (202) 708-3000.

• Regulation: 24 CFR 891.165.

Project/Activity: Tongore Pines, Project Number: 012-EE193/NY36-S961-011. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: April 17, 2000.

Reason Waived: The Sponsor had to seek a new general contractor when the old contractor withdrew after realizing he had not used the Davis Bacon wage rates in his bidding process. Also, the New York Hub needed additional time to issue a revised Firm Commitment.

Contact: Willie Spearmon, Director, Office of Housing Assistance and Grant Administration, Department of Housing and Urban Development, 451 Seventh Street, SW, Washington, DC 20410-7000, telephone (202) 708-3000.

• Regulation: 24 CFR 891.165.

Project/Activity: Oakwoods Senior Housing, South Brunswick, New Jersey, Project Number: 031-EE040/NJ39-S961-006. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: May 2, 2000.

Reason Waived: The Sponsor/Owner had difficulty securing a building permit and the Newark Program Center needed additional time to achieve initial closing.

Contact: Willie Spearmon, Director, Office of Housing Assistance and Grant Administration, Department of Housing and Urban Development, 451 Seventh Street, SW., Washington, DC 20410-7000, telephone (202) 708-3000.

• Regulation: 24 CFR 891.165.

Project/Activity: The Diocese of Buffalo, Buffalo, New York, Project Number: 014-HD066/NY06-Q971-013. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: May 2, 2000.

Reason Waived: An alternate site had been secured and plans and specifications were being revised to accommodate the increase in Davis Bacon wage rates.

Contact: Willie Spearmon, Director, Office of Housing Assistance and Grant Administration, Department of Housing and Urban Development, 451 Seventh Street, SW, Washington, DC 20410-7000, telephone (202) 708-3000.

• Regulation: 24 CFR 891.165.

Project/Activity: Wesley Acres II, Decatur, Alabama, Project Number: 062-EE037/AL09-S971-003. Request for fund reservation.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: May 2, 2000.

Reason Waived: Additional time was needed for the City of Decatur to complete their review of the plans and specifications for the property before they would issue the required building permits.

Contact: Willie Spearmon, Director, Office of Housing Assistance and Grant Administration, Department of Housing and Urban Development, 451 Seventh Street, SW, Washington, DC 20410-7000, telephone (202) 708-3000.

• Regulation: 24 CFR 891.165.

Project/Activity: Council for the Spanish Speaking, Milwaukee, Wisconsin, Project Number: 075-EE063/WI39-S971-007. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: May 2, 2000.

Reason Waived: Additional time was needed for the Milwaukee Program Center and the Sponsor to resolve issues related to the Firm Commitment documents.

Contact: Willie Spearmon, Director, Office of Housing Assistance and Grant Administration, Department of Housing and Urban Development, 451 Seventh Street, SW, Washington, DC 20410-7000, telephone (202) 708-3000.

• Regulation: 24 CFR 891.165.

Project/Activity: Good Samaritan Housing, Fennimore, Wisconsin, Project Number: 075-EE058/WI39-S971-002. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: May 2, 2000.

Reason Waived: Additional time was needed for the Milwaukee Program Center and the Sponsor to resolve issues related to the closing documents.

Contact: Willie Spearmon, Director, Office of Housing Assistance and Grant Administration, Department of Housing and Urban Development, 451 Seventh Street, SW, Washington, DC 20410-7000, telephone (202) 708-3000.

• Regulation: 24 CFR 891.165.

Project/Activity: ARC Housing in Milwaukee, Inc., Wauwatosa, Wisconsin, Project Number: 075-HD053/WI39-Q971-004. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: May 2, 2000.

Reason Waived: There was a site change and there were some environmental problems.

Contact: Willie Spearmon, Director, Office of Housing Assistance and Grant Administration, Department of Housing and Urban Development, 451 Seventh Street, SW, Washington, DC 20410-7000, telephone (202) 708-3000.

• Regulation: 24 CFR 891.165.

Project/Activity: Kealahou—Big Island Residential, Keahau, Hawaii

Project Number: 140-HD019/HI10-Q971-001. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: May 18, 2000.

Reason Waived: The Owner had encountered delays while it resolved a floodplain issue and sought additional funding to cover shortfalls.

Contact: Willie Spearmon, Director, Office of Housing Assistance and Grant Administration, Department of Housing and Urban Development, 451 Seventh Street, SW, Washington, DC 20410-7000, telephone (202) 708-3000.

• Regulation: 24 CFR 891.165.

Project/Activity: Webster Supportive Housing, Harris County, Texas, Project Number: 114-HD012/TX24-Q961-001. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: May 31, 2000.

Reason Waived: An alternate site had to be acquired.

Contact: Willie Spearmon, Director, Office of Housing Assistance and Grant Administration, Department of Housing and Urban Development, 451 Seventh Street, SW, Washington, DC 20410-7000, telephone (202) 708-3000.

• Regulation: 24 CFR 891.165.

Project/Activity: The Esplanade, San Antonio, Texas, Project Number: 115-HD022/TX59-Q961-002. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: May 31, 2000.

Reason Waived: An alternate side had to be located.

Contact: Willie Spearmon, Director, Office of Housing Assistance and Grant Administration, Department of Housing and Urban Development, 451 Seventh Street, SW, Washington, DC 20410-7000, telephone (202) 708-3000.

• Regulation: 24 CFR 891.165.

Project/Activity: Jackson Supportive Housing, Jackson, Mississippi, Project Number: 065-HD019/MS26-Q971-002. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: May 31, 2000.

Reason Waived: The Owner pursued reduced state tax rates on construction costs and HUD staff needed additional time for technical processing.

Contact: Willie Spearmon, Director, Office of Housing Assistance and Grant Administration, Department of Housing and Urban Development, 451 Seventh Street, SW, Washington, DC 20410-7000, telephone (202) 708-3000.

• Regulation: 24 CFR 891.165.

Project/Activity: Accessible Space, Inc., San Antonio, Texas, Project Number: 115-HD025/TX59-Q971-003. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: May 31, 2000.

Reason Waived: The Sponsor needed additional time to raise funds to make the facility 100 percent accessible to persons with severe mobility impairments.

Contact: Willie Spearmon, Director, Office of Housing Assistance and Grant Administration, Department of Housing and Urban Development, 451 Seventh Street, SW, Washington, DC 20410-7000, telephone (202) 708-3000.

• Regulation: 24 CFR 891.165.

Project/Activity: Sumac Trail Apartments, Inc., Superior, Wisconsin, Project Number: 075-HD050/WI39-Q971-001. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: May 31, 2000.

Reason Waived: Additional time was needed for the Sponsor to submit and for the Milwaukee Program Center to review the Firm Commitment application as well as for the initial closing to take place.

Contact: Willie Spearmon, Director, Office of Housing Assistance and Grant Administration, Department of Housing and Urban Development, 451 Seventh Street, SW, Washington, DC 20410-7000, telephone (202) 708-3000.

• Regulation: 24 CFR 891.165.

Project/Activity: La Casa Village II Apartments, Inc., Waukesha, Wisconsin, Project Number: 075-EE065/WI39-S971-009. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: May 31, 2000.

Reason Waived: The Owner needed additional time to submit the closing documents.

Contact: Willie Spearmon, Director, Office of Housing Assistance and Grant Administration, Department of Housing and Urban Development, 451 Seventh Street, SW, Washington, DC 20410-7000, telephone (202) 708-3000.

• Regulation: 24 CFR 891.165.

Project/Activity: Access House I, Parsippany-Troy Hills, New Jersey, Project Number: 031-HD078/NJ39-Q971-001. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: June 1, 2000.

Reason Waived: The Sponsor had experienced staffing problems and had unforeseen and unavoidable circumstances.

Contact: Willie Spearmon, Director, Office of Housing Assistance and Grant Administration, Department of Housing and Urban Development, 451 Seventh Street, SW, Washington, DC 20410-7000, telephone (202) 708-3000.

• Regulation: 24 CFR 891.165.

Project/Activity: Monmouth County ARC Home, Tinton Falls, New Jersey, Project Number: 031-HD079/NJ39-Q971-002. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: June 8, 2000.

Reason Waived: Additional time was needed for the Philadelphia Hub to issue the Firm Commitment and for the Owner to submit the closing documents.

Contact: Willie Spearmon, Director, Office of Housing Assistance and Grant Administration, Department of Housing and Urban Development, 451 Seventh Street, SW, Washington, DC 20410-7000, telephone (202) 708-3000.

• Regulation: 24 CFR 891.165.

Project/Activity: VOA Gibbstown Elderly Housing, Gibbstown, New Jersey, Project Number: 035-EE030/NJ39-S971-007. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: June 8, 2000.

Reason Waived: Easement and tax abatement issues caused a delay.

Contact: Willie Spearmon, Director, Office of Housing Assistance and Grant Administration, Department of Housing and Urban Development, 451 Seventh Street, SW, Washington, DC 20410-7000, telephone (202) 708-3000.

• Regulation: 24 CFR 891.165.

Project/Activity: Interfaith Housing, Westport, Connecticut, Project Number: 017-HD015/CT26-Q961-001. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: June 22, 2000.

Reason Waived: The Sponsor experienced extreme difficulty in securing adequate properties for rehabilitation along with the additional time needed for considerable fund raising activities.

Contact: Willie Spearmon, Director, Office of Housing Assistance and Grant Administration, Department of Housing and Urban Development, 451 Seventh Street, SW, Washington, DC 20410-7000, telephone (202) 708-3000.

• Regulation: 24 CFR 891.165.

Project/Activity: Project Live IX Consumer Home, Livingston, New Jersey, Project Number: 031-HD085/NJ39-Q971-010. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: June 22, 2000.

Reason Waived: The Philadelphia Hub was processing the Firm Commitment application.

Contact: Willie Spearmon, Director, Office of Housing Assistance and Grant Administration, Department of Housing and Urban Development, 451 Seventh Street, SW, Washington, DC 20410-7000, telephone (202) 708-3000.

• Regulation: 24 CFR 891.165.

Project/Activity: Geneva B. Scruggs, Buffalo, New York, Project Number: 014-HD043/NY06-Q961-005. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: June 22, 2000.

Reason Waived: The Sponsor had undergone a major reorganization and had been working with the City of Buffalo and the State of New York to obtain additional funding for the project.

Contact: Willie Spearmon, Director, Office of Housing Assistance and Grant Administration, Department of Housing and Urban Development, 451 Seventh Street, SW, Washington, DC 20410-7000, telephone (202) 708-3000.

• Regulation: 24 CFR 891.165.

Project/Activity: Presbyterian Homes at Franklin Township, Franklin Township, New Jersey, Project Number: 031-EE045/NJ39-S971-002. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: June 22, 2000.

Reason Waived: The Sponsor/Owner required additional time to secure secondary financing.

Contact: Willie Spearmon, Director, Office of Housing Assistance and Grant Administration, Department of Housing and Urban Development, 451 Seventh Street, SW, Washington, DC 20410-7000, telephone (202) 708-3000.

• Regulation: 24 CFR 891.165.

• Project/Activity: Presbyterian Homes at West Windsor, West Windsor, New Jersey, Project Number: 035-EE022/NJ39-S961-001. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: June 22, 2000.

Reason Waived: Additional time was required to correct deficiencies in the closing documents.

Contact: Willie Spearmon, Director, Office of Housing Assistance and Grant Administration, Department of Housing and Urban Development, 451 Seventh Street, SW, Washington, DC 20410-7000, telephone (202) 708-3000.

• Regulation: 24 CFR 891.165.

Project/Activity: B'nai B'rith Chesilhurst House, Boro of Chesilhurst, New Jersey, Project Number: 035-EE029/NJ39-S971-006. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: June 22, 2000.

Reason Waived: The Philadelphia Hub had issued the Firm Commitment and additional time was needed for the project to reach initial closing.

Contact: Willie Spearmon, Director, Office of Housing Assistance and Grant Administration, Department of Housing and Urban Development, 451 Seventh Street, SW, Washington, DC 20410-7000, telephone (202) 708-3000.

• Regulation: 24 CFR 891.165.

Project/Activity: Edgewood Terrace III, Washington, DC, Project Number: 000-EE047/DC39-S981-001. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: June 22, 2000.

Reason Waived: The Sponsor/Owner required additional time to negotiate the project's several funding sources.

Contact: Willie Spearmon, Director, Office of Housing Assistance and Grant Administration, Department of Housing and Urban Development, 451 Seventh Street, SW, Washington, DC 20410-7000, telephone (202) 708-3000.

• Regulation: 24 CFR 891.165.

Project/Activity: Mercy Gardens, San Diego, California, Project Number: 129-HD011/CA33-Q961-001. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: June 28, 2000.

Reason Waived: The project was delayed due to problems encountered in adapting the existing structure for reuse.

Contact: Willie Spearmon, Director, Office of Housing Assistance and Grant Administration, Department of Housing and Urban Development, 451 Seventh Street, SW, Washington, DC 20410-7000, telephone (202) 708-3000.

• Regulation: 24 CFR 891.165.

Project/Activitie: Mariposa Manor, Los Angeles, California, Project Number: 122-EE118/CA16-S971-003. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: June 28, 2000.

Reason Waived: The project was delayed due to complications involving the Section 106 Historic Preservation Review.

Contact: Willie Spearmon, Director, Office of Housing Assistance and Grant Administration, Department of Housing and Urban Development, 451 Seventh Street, SW, Washington, DC 20410-7000, telephone (202) 708-3000.

• Regulation: 24 CFR 891.165.

Project/Activity: Ailbe III, Chicago, Illinois, Project Number: 071-HD108/IL06-Q971-008. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: June 30, 2000.

Reason Waived: The Sponsor/Owner had difficulties finding a contractor who could build the project for an amount close to the fund reservation.

Contact: Willie Spearmon, Director, Office of Housing Assistance and Grant Administration, Department of Housing and Urban Development, 451 Seventh Street, SW, Washington, DC 20410-7000, telephone (202) 708-3000.

• Regulation: 24 CFR 891.165.

Project/Activity: Victoria Jennings Residences, Chicago, Illinois, Project Number: 071-HD088/IL06-Q961-003. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: June 30, 2000.

Reason Waived: The project's original design exceeded the capital advance amount and required changes to lower costs.

Contact: Willie Spearmon, Director, Office of Housing Assistance and Grant Administration, Department of Housing and Urban Development, 451 Seventh Street, SW, Washington, DC 20410-7000, telephone (202) 708-3000.

• Regulation: 24 CFR 891.165.

Project/Activity: Ailbe II, Chicago, Illinois, Project Number: 071-EE139/IL06-S971-013. Request for fund reservation extension.

Nature of Requirement: HUD's regulation at 24 CFR 891.165 provides that the duration of the fund reservations for the capital advance is 18 months from the date of issuance with limited exceptions up to 24 months, as approved by HUD on a case-by-case basis.

Granted by: William C. Apgar, Assistant Secretary for Housing-Federal Housing Commissioner.

Date Granted: June 30, 2000.

Reason Waived: The Sponsor/Owner had difficulties finding a contractor who could build the project for an amount close to the fund reservation.

Contact: Willie Spearmon, Director, Office of Housing Assistance and Grant Administration, Department of Housing and Urban Development, 451 Seventh Street, SW, Washington, DC 20410-7000, telephone (202) 708-3000.

• Regulation: 24 CFR 891.205.

Project/Activity: Ledge Street Elderly Housing II, Nashua, New Hampshire, Project Number: 023-EE052/NH36-S991-002.

Nature of Requirement: HUD's regulation in 24 CFR 891.205 requires the project owner to be a single purpose private nonprofit organization.

Granted by: William C. Apgar, Assistant Secretary for Housing-Federal Housing Commissioner.

Date Granted: May 31, 2000.

Reason Waived: The City would not permit further subdivision of the property without a number of variances being approved, and the one owner entity would result in cost savings in development costs, processing time, an better utilization of the site.

Contact: Willie Spearmon, Director, Office of Housing Assistance and Grant Administration, Department of Housing and Urban Development, 451 Seventh Street, SW, Washington, DC 20410-7000, telephone (202) 708-3000.

• Regulation: 24 CFR 891.205.

Project/Activity: New Samaritan Corporation, Wolcott, Connecticut, Project Number: 017-EE052/CT26-S991-003.

Nature of Requirement: HUD regulations in 24 CFR 891.205 requires the project owner to be a single purpose private nonprofit organization.

Granted by: William C. Apgar, Assistant Secretary for Housing-Federal Housing Commissioner.

Date Granted: April 17, 2000.

Reason Waived: The project will be connected to an existing Section 202 project and the one ownership will permit the two projects to have coordinated administrative maintenance and programming services for the residents.

Contact: Willie Spearmon, Director, Office of Housing Assistance and Grant Administration, Department of Housing and Urban Development, 451 Seventh Street, SW, Washington, DC 20410-7000, telephone (202) 708-3000.

• Regulation: 24 CFR 891.205 and 24 CFR 891.410(c).

Project/Activity: Orchard Knob Apartments, Chattanooga, Tennessee, Project Number: 087-EE015.

Nature of Requirement: HUD regulations in 24 CFR 891.205 and 891.410(c) limit occupancy to very low-income (VLI) elderly persons (i.e., households composed of one or more persons at least one of whom is 62 years of age at time of initial occupancy).

Granted by: William C. Apgar, Assistant Secretary for Housing-Federal Housing Commissioner.

Date Granted: May 31, 2000.

Reason Waived: The Atlanta Multifamily Hub has requested waiver of the Section 202/PRAC occupancy requirements for this project which would allow seven ineligible households/tenants under the age of 62 to remain at the project. The management agent used requirements of the Section 202/8 program, assuming the Section 202/PRAC program requirements were the same. These families must be relocated at project expense within one year of granting this waiver.

Contact: Frank M. Malone, Director, Office of Asset Management, Department of Housing and Urban Development, 451 Seventh Street SW, Room 6160, Washington, DC 20410-7000; telephone (202) 708-3730.

• Regulation: 24 CFR 891.310(b)(1).

Project/Activity: Arc HUD V, Newark, Delaware, Project Number: 032-HD023/DE26-Q991-002

Nature of Requirement: HUD's regulation at 24 CFR 891.310(b)(1) provides that all entrances, common areas, units to be occupied by resident staff, and amenities must be readily accessible to and usable by persons with disabilities.

Granted by: William C. Apgar, Assistant Secretary for Housing-Federal Housing Commissioner.

Date Granted: April 17, 2000.

Reason Waived: This project consists of two group homes, housing four residents. The Sponsor indicated that 10 percent of one property and 40 percent of the units for this property would be made fully handicapped accessible. However, the Sponsor never had more than a few physically disabled residents and far below 40 percent of the intended occupants of this project have mobility impairments. To retrofit this property would not be financially feasible and the resident disruption would be prohibitive.

Contact: Willie Spearmon, Director, Office of Housing Assistance and Grant Administration, Department of Housing and Urban Development, 451 Seventh Street, SW, Washington, DC 20410-7000, telephone: (202) 708-3000.

• Regulation: 24 CFR 891.410(c).

Project/Activity: Fairview Apartments, Warden, Washington, Project Number: 171-EE009.

Nature of Requirement: HUD regulations at 24 CFR 891.410(c) limit occupancy to very low income (VLI) elderly persons, i.e., households of one or more persons at least one of whom is 62 years of age at the time of initial occupancy.

Granted by: William C. Apgar, Assistant Secretary for Housing-Federal Housing Commissioner.

Date Granted: April 17, 2000.

Reason Waived: The Seattle Multifamily Hub requested waiver of this regulation due to the project's severe vacancy problems. This waiver will allow elderly and near elderly families who are at or over age 55 and low income to apply for admission, thereby attempting to improve occupancy rates. This waiver effective for one year from the date of approval.

Contact: Frank M. Malone, Director, Office of Asset Management, Department of Housing and Urban Development, 451 Seventh Street SW, Room 6160, Washington, DC 20410-7000; telephone (202) 708-3730.

• Regulation: 24 CFR 891.410(c).

Project/Activity: Cottonwood Ridge Apartments, Springfield, Minnesota, Project Number: 092-EE043.

Nature of Requirement: HUD regulations at 24 CFR 891.410(c) limit occupancy to very low income (VLI) elderly persons, i.e., households of one or more persons at least one of whom is 62 years of age at the time of initial occupancy.

Granted by: William C. Apgar, Assistant Secretary for Housing-Federal Housing Commissioner.

Date Granted: June 5, 2000.

Reason Waived: The Minneapolis Multifamily Hub requested waiver of the Section 202/PRAC occupancy requirements for this project due to low vacancy rates. This will allow elderly and near-elderly families and individuals with or without disabilities who are at or over the age of 55 and low income to apply for admission to the subject project; thereby assisting in attempting to rent up vacant units. This waiver is effective for one year from the waiver approval date.

Contact: Frank M. Malone, Director, Office of Asset Management, Department of Housing and Urban Development, 451 Seventh Street SW, Room 6160, Washington, DC 20410-7000; telephone (202) 708-3730.

• Regulation: 24 CFR 891.575.

Project/Activity: Santa Cruz Apartments, Milwaukee, Wisconsin, Project Number: 075-EH020.

Nature of Requirement: HUD regulations at 24 CFR Part 891.575 require that occupancy be limited to very low income (VLI) elderly persons (i.e., households composed of one or more persons at least one of whom is 62 years of age at time of initial occupancy).

Granted by: William C. Apgar, Assistant Secretary for Housing-Federal Housing Commissioner.

Date Granted: April 17, 2000.

Reason Waived: The Milwaukee Multifamily Program Center has requested an age waiver for the subject project which is located in a high crime/drug area and experiencing vacancy problems. Potential tenants are choosing projects located in safer areas creating vacancy problems at Santa Cruz Apartments. This waiver will allow management additional flexibility in attempting to rent up these vacant units. Admission will be open to persons between the ages of 55 and 62 but continuing to give preference to those 62 and over. This waiver is effective for one year from the date of approval.

Contact: Frank M. Malone, Director, Office of Asset Management, Department of Housing and Urban Development, 451 Seventh Street SW, Room 6160, Washington, DC 20410-7000; telephone (202) 708-3730.

• Regulation: 24 CFR 891.575 and 24 CFR 891.610(c).

Project/Activity: Golden Links Manor, Ogden, Utah, Project Number 105-EH036.

Nature of Requirement: HUD regulations in 24 CFR 891.575 and 24 CFR 891.610(c) limit occupancy to very low-income (VLI) elderly persons (i.e., households composed of one or more persons at least one of whom is 62 years of age at time of initial occupancy).

Granted by: William C. Apgar, Assistant Secretary for Housing-Federal Housing Commissioner.

Date Granted: April 17, 2000.

Reason Waived: The Denver Multifamily Hub requested an age waiver for the subject project to allow project management additional flexibility in attempting to rent up vacant units. Vacant units will be marketed to people between the ages of 55 and 62 with or without disabilities, allowing management to rent up the remaining units. This waiver is in effect for one year from the date of approval.

Contact: Frank M. Malone, Director, Office of Asset Management, Department of Housing and Urban Development, 451 Seventh Street SW, Room 6160, Washington, DC 20410-7000; telephone (202) 708-3730.

• Regulation: 24 CFR 891.575 and 24 CFR 891.610(c).

Project/Activity: Jaycee Future I, Chattanooga, Tennessee, Project Number: 087-SH006.

Nature of Requirement: HUD regulations in 24 CFR 891.575 and 610(c) limit occupancy to very low-income (VLI) elderly persons (i.e., households composed of one or more persons at least one of whom is 62 years of age at time of initial occupancy).

Granted by: William C. Apgar, Assistant Secretary for Housing-Federal Housing Commissioner.

Date Granted: June 5, 2000.

Reason Waived: The Atlanta Multifamily Hub requested an age waiver for the subject project because of vacancy problems due to a soft housing market. This waiver will allow project management flexibility in attempting to rent up the vacant units. Management may market units to elderly persons with or without disabilities between the ages of 55 and 62 for a period of one year.

Contact: Frank M. Malone, Director, Office of Asset Management, Department of Housing and Urban Development, 451 Seventh Street SW, Room 6160, Washington, DC 20410-7000; telephone (202) 708-3730.

IV. Regulatory Waivers Granted by the Office of Multifamily Housing Assistance Restructuring (OMHAR)

For further information about the following waiver actions, please see the name of the contact person which immediately follows the description of the waiver granted.

• Regulation: 24 CFR 401.600.

Project/Activity: The following projects requested waivers to the 12-month limit at above-market rents (24 CFR 401.600):

FHA No. | Project name | State
12144193 | East Santa Fe Apts | CA
06335038 | Emerson Arms | FL
06335013 | Flagler Village Apartments | FL
06335055 | Holifield Arms Apartments | FL
06335005 | Kennedy Homes Apartments | FL
06335054 | Oakland Terrace | FL
07344901 | Miami Hills Apartments | IN
02344167 | Eastern Cooperative Homes | MA
02344199 | Sargeant West Apts | MA
09235295 | Canterbury Square | MN
09335055 | Aspen Village | MT
09335076 | Carter Manor | MT
09335072 | Centennial Village | MT
09335062 | Holiday West Apartments | MT
09435031 | Prairie View II | ND
04335188 | Buckeye 77 | OH
04335139 | Hunterwood Park Apartments | OH
04635448 | Manorview Apartments | OH
04335194 | Mechanicsburg Village | OH
04335212 | Metro I | OH
04335215 | Polaris | OH
04335172 | Staunton Commons I | OH
12635158 | Cascadian Terrace | OR
03344199 | Brownsville Apartments | PA
03355020 | Lemington Heights | PA
03344175 | Midtown Plaza | PA
03344047 | Tribrad Apartments | PA
08135030 | Hillview Manor | TN
08738004 | Whiteside Faith Manor | TN
11435085 | Sunlight Manor Apartments | TX

Nature of Requirement: Section 401.600 requires that projects be marked down to market rents within 12 months of their first expiration date after January 1, 1998. The intent of this provision is to ensure timely processing of requests for restructuring, and that the properties will not default on their FHA insured mortgages during the restructuring process.

Granted By: Ira Peppercorn, Director of OMHAR.

Date Granted: April 14, 2000.

Reasons Waived: The above-listed projects were not assigned to the Participating Administrative Entities (PAEs) in a timely manner or for which the restructuring analysis was unavoidably delayed due to no fault of the owner.

Contact: Dan Sullivan, Office of Multifamily Housing Assistance Restructuring, Department of Housing and Urban Development, Portals Building, Suite 400, 1280 Maryland Avenue, Washington, DC 20410; telephone (202) 708-0001.

• Regulation: 24 CFR 401.600.

Project/Activity: The following projects requested waivers to the 12-month limit at above-market rents (24 CFR 401.600):

FHA No. | Project name | State
12144801 | Beth Asher | CA
13635617 | Peachtree Terrace | CA
12144818 | St Andrews Manor | CA
06644102 | LakeView Towers | FL
08344054 | Dudley Court Apartments | KY
04344034 | Sterling Court Apartments | OH
03335077 | Pinney Street Manor | PA
05435381 | Edgewood Sq. Apts | SC
08135028 | Ellis Street Apartments | TN
08135004 | Goodwill Village Apartments | TN
08192501 | Hillview Manor (Chezita Gardens) | TN
08735070 | Jacksboro Plaza | TN
11535056 | Brookhollow Apts | TX
11444026 | Cedarwood Apartments | TX

Nature of Requirement: Section 401.600 requires that projects be marked down to market rents within 12 months of their first expiration date after January 1, 1998. The intent of this provision is to ensure timely processing of requests for restructuring, and that the properties will not default on their FHA insured mortgages during the restructuring process.

Granted By: Ira Peppercorn, Director of OMHAR.

Date Granted: April 26, 2000.

Reasons Waived: The attached list of projects were not assigned to the Participating Administrative Entities in timely manner and for which the restructuring analysis was unavoidably delayed due to no fault of the owner.

Contact: Dan Sullivan, Office of Multifamily Housing Assistance Restructuring, Department of Housing and Urban Development, Portals Building, Suite 400, 1280 Maryland Avenue, Washington, DC 20410; telephone (202) 708-0001.

• Regulation: 24 CFR 401.600.

Project/Activity: The following projects requested waivers to the 12-month limit at above-market rents (24 CFR 401.600):

FHA No. | Project name | State
06235213 | Bradley Park Apts | AL
06235003 | Ozark Homes | AL
12344071 | Grant Park Apartments | AZ
10135265 | Southgate Commons Apartments | CO
01738034 | Bella Vista III | CT
06635032 | Mt. Olive Gardens Apts. | FL
06755034 | Wauchula Gardens | FL
12435023 | Craftin Apartments | ID
07335238 | Rushville Commons | IN
08444059 | Walnut Grove I | MO
08444150 | Walnut Grove III | MO
05335201 | Crescent Gardens | NC
09435027 | Columbia Square South | ND
10335012 | Litchfield Manor, Inc. | NE
01257020 | 1085 Manhattan Development | NY
01257057 | Daly II Apartments | NY
01257042 | Morrisania III | NY
04635168 | Broadway Apartments | OH
04644171 | Centennial Estates Cooperative | OH
04244050 | Cherrywood | OH
04635236 | Freeman Housing | OH
04635317 | Holden House Apartments | OH
04635406 | Jena Apartments | OH
04335177 | Lancaster Club Apartments | OH
04635471 | Senior Chateau | OH
04244026 | Somerset I | OH
04244252 | Somerset III | OH
04335191 | Staunton Commons II | OH
04235239 | Terrill Commons | OH
04335144 | Villa Park | OH
04335169 | Washington Square II Apartments | OH
11735142 | Chaparral Townhouses | OK
01644015 | Mt. Hope Court Apartments | RI
01657004 | Oxford Place | RI
05435402 | Gateway Village | SC
08635033 | Trinity Hills | TN
11435056 | Church Village Apartments | TX
11435041 | Gulf Coast Arms | TX
11544021 | King Manor Apartments | TX
11544021 | King Manor Apartments | TX
11535054 | Leona Apts | TX
11235280 | Patman Switch Apartments | TX
11435184 | The Meadows Apts | TX
12735264 | Cedar Heights Apts | WA
10992501 | Platte View Apartments | WY

Nature of Requirement: Section 401.600 requires that projects be marked down to market rents within 12 months of their first expiration date after January 1, 1998. The intent of this provision is to ensure timely processing of requests for restructuring, and that the properties will not default on their FHA insured mortgages during the restructuring process.

Granted By: Ira Peppercorn, Director of OMHAR.

Date Granted: May 12, 2000.

Reasons Waived: The attached list of projects were not assigned to the Participating Administrative Entities in a timely manner or for which the restructuring analysis was unavoidably delayed due to no fault of the owner.

Contact: Dan Sullivan, Office of Multifamily Housing Assistance Restructuring, Department of Housing and Urban Development, Portals Building, Suite 400, 1280 Maryland Avenue, Washington, DC 20410; telephone (202) 708-0001.

• Regulation: 24 CFR 401.600.

Project/Activity: The following projects requested waivers to the 12-month limit at above-market rents (24 CFR 401.600):

FHA No. | Project name | State
06335069 | Madison Heights Apartments | FL
06635032 | Mount Olive Gardens | FL
06335027 | Oakwood Terrace I | FL
06335066 | Oakwood Terrace II | FL
06335043 | Tidewater Apartments | FL
06144231 | Raymonia Apartments | GA
07435112 | Meadow Lane Apartments | IA
07435063 | River Village I | IA
07435057 | Westland Manor Apartments | IA
08444164 | Kenwood Apartments | MO
03144158 | High Spruce Apartments | NJ
03135142 | Van Wagenen Avenue No. 1 Apts | NJ
04235257 | New Town Apartments | OH
04244026 | Somerset I | OH
04244087 | Somerset II | OH
04244252 | Somerset III | OH
11844032 | New Lake Village | OK
03444108 | Benjamin Banneker Plaza | PA
03432029 | City Heights apts | PA
03344130 | Elhome | PA
03444021 | Harverford House | PA
03435103 | Lock Haven Gardens | PA
01644032 | Delvelco Family Apts. | RI
01644032 | Develco Family Apartments | RI
01635009 | Develco Singles | RI
05435023 | Bethel Bishop Chappelle Apartments | SC
05435034 | Chester Manor Apartments | SC
05435051 | Fairwood Apts. | SC
05435076 | Friendship Court | SC
05435061 | Lincoln Apartments | SC
05435047 | Pinewood Apartments | SC
05435063 | Roosevelt Gardens | SC
05435166 | Roosevelt Gardens II | SC
08135024 | East Gate Village Apartments | TN
08644019 | Northgate Arms Apartments | TN
08135036 | Robinhood Park | TN
11235013 | Belaire Manor of Longview | TX
13344009 | Central Village Apartments | TX
05135244 | Mill Woods Apartments | VA
07535226 | Forest Acres Apartments | WI

Nature of Requirement: Section 401.600 requires that projects be marked down to market rents within 12 months of their first expiration date after January 1, 1998. The intent of this provision is to ensure timely processing of requests for restructuring, and that the properties will not default on their FHA insured mortgages during the restructuring process.

Granted By: Ira Peppercorn, Director of OMHAR.

Date Granted: May 25, 2000.

Reasons Waived: The attached list of projects were not assigned to the PAEs in a timely manner or for which the restructuring analysis was unavoidably delayed due to no fault of the owner.

Contact: Dan Sullivan, Office of Multifamily Housing Assistance Restructuring, Department of Housing and Urban Development, Portals Building, Suite 400, 1280 Maryland Avenue, Washington, DC 20410; telephone (202) 708-0001.

• Regulation: 24 CFR 401.600.

Project/Activity: The following projects requested waivers to the 12-month limit at above-market rents (24 CFR 401.600):

FHA No. | Project name | State
06335009 | Cleveland Arms | FL
06335032 | Panama Gardens | FL
06344051 | Springfield Res. I | FL
06344041 | Sutton Place | FL
06735011 | Taylor Apts. | FL
06155035 | Bethel Church Homes | GA
06144291 | Boynton Village | GA
06135203 | Eastman Gardens | GA
07135319 | Paul G. Stewart Apts. III | IL
07344901 | Miami Hills | IN
08335010 | Hillcrest Apartments | KY
02344050 | AMIFF Housing | MA
02335171 | Lowell Sun/Father John's | MA
02344184 | Walnut Street | MA
04735005 | Interfaith Homes of Kalamazoo | MI
04735095 | Pinery Park | MI
04735099 | Serenity Place | MI
09435030 | University Square | ND
01435117 | Burnie C. McCarley Gardens | NY
01455008 | Stewart Park Apts. | NY
01435026 | Village Square | NY
04635488 | Englewood (MM) | OH
04335149 | Frankfort Village | OH
04635344 | Hillside | OH
04335159 | Mt. Vernon II | OH
04644015 | Northcrest Gardens | OH
04635261 | Parkway Towers | OH
04644139 | Pinewood Gardens | OH
04635338 | Price Apartments | OH
04644149 | St. Paul Lutheran Village I | OH
04644149 | St. Paul Lutheran Village I | OH
04635252 | United Services #5 | OH
04635476 | Vandalia Village | OH
03344026 | Allegheny Union Plaza | PA
03344015 | Braddehanna | PA
03344169 | Brightwood Manor | PA
03344104 | Central Hill | PA
03435125 | Coatesville Towers | PA
03333501 | Cora Street Apts. | PA
03344025 | Hi View Gardens | PA
03344805 | IDA Tower | PA
03435129 | Linden Terrace | PA
03355005 | Second East Hills | PA
03344027 | Valley Royal Court | PA
03432033 | Wister Townhouses | PA
01658501 | Develco Apartments | RI
01644032 | Develco Family Apts. | RI
08138002 | Wesley Madison Towers | TN
11235033 | Jerusalem Apts. | TX
11435223 | Villa Main Apts. | TX
17144071 | Alderwood Manor | WA
17144046 | Parkview | WA
12738043 | South Sound Villa | WA
07535201 | Spring Glen Apts. | WI
03444084 | Aspen Village | PA
03435017 | Jones Memorial | PA

Nature of Requirement: Section 401.600 requires that projects be marked down to market rents within 12 months of their first expiration date after January 1, 1998. The intent of this provision is to ensure timely processing of requests for restructuring, and that the properties will not default on their FHA insured mortgages during the restructuring process.

Granted By: Ira Peppercorn, Director of OMHAR.

Date Granted: June 29, 2000.

Reasons Waived: The attached list of projects were not assigned to the Participating Administrative Entities in a timely manner or for which the restructuring analysis was unavoidably delayed due to no fault of the owner.

Contact: Dan Sullivan, Office of Multifamily Housing Assistance Restructuring, Department of Housing and Urban Development, Portals Building, Suite 400, 1280 Maryland Avenue, Washington, DC 20410; telephone (202) 708-0001.

V. Regulatory Waivers Granted by the Office of Public and Indian Housing

For further information about the following waiver actions, please see the name of the contact person which immediately follows the description of the waiver granted.

• Regulation: 24 CFR 761.30(b).

Project/Activity: Public Housing Drug Elimination Program (PHDEP) Grant PA26DEP030197. Lancaster City Housing Authority, Lancaster, PA.

Nature of Requirement: Section 761.30(b) establishes the terms of the grant agreement and the procedures for extending the grant term. A waiver of 24 CFR 761.30(b) to extend a 1997 PHDEP Grant was requested by the Lancaster City Housing Authority (LCHA).

Granted By: Harold Lucas, Assistant Secretary for Public and Indian Housing.

Date Granted: January 20, 2000.

Reason Waived: LCHA's prevention program was delayed while they searched for and hired a new PHDEP contractor and staff for the program. The waiver is for six months from the date the grant agreement (HUD-1044) is modified and signed by both parties.

Contact: Sonia L. Burgos, Director, Community Safety and Conservation Division, Department of Housing and Urban Development, 451 Seventh Street, SW., Rm. 4206, Washington, DC 20410-5000, telephone (202) 708-1197

• Regulation: 24 CFR 761.30(b)

Project/Activity: Public Housing Drug Elimination (PHDEP) Fiscal Year 1997. City of Key West housing Authority, Key West, Florida.

Nature of Requirement: Section 761.30(b) establishes the terms of the grant agreement and the procedures for extending the grant term. A waiver of 24 CFR 761.30(b) to extend the PHDEP 1997 grant was requested by the Housing Authority of the City of Key West (KWHA).

Granted By: Harold Lucas, Assistant Secretary for Public and Indian Housing.

Date Granted: January 24, 2000.

Reason Waived: Implementation of the PHDEP grant was delayed as a result of litigation surrounding the Campus South educational project. Additionally, the Girls and Boys Club terminated its contract due to the lack of community support and additional operating funds. KWHA plans to utilize the remaining grant funds for the provision of drug prevention activities targeting the youth population.

Contact: Sonia L. Burgos, Director, Community Safety and Conservation Division, Department of Housing and Urban Development, 451 Seventh Street, SW., Rm. 4206, Washington, DC 20410-5000, telephone (202) 708-1197.

• Regulation: 24 CFR 761.30(b).

Project/Activity: Bethlehem Housing Authority, Bethlehem, Pennsylvania.

Nature of Requirement: Section 761.30(b) establishes the terms of the grant agreement and the procedures for extending the grant term. A waiver of 24 CFR 761.30(b) to extend the PHDEP 1996 grant was requested by the Bethlehem Housing Authority (BHA), Bethlehem, Pennsylvania.

Granted By: Harold Lucas, Assistant Secretary for Public and Indian Housing.

Date Granted: January 29, 2000.

Reason Waived: The BHA requested this waiver to expend the remaining PHDEP funds under budget line item 9110 (Reimbursement of Law Enforcement).

Contact: Sonia L. Burgos, Director, Community Safety and Conservation Division, Department of Housing and Urban Development, 451 Seventh Street, SW., Rm. 4206, Washington, DC 20410-5000, telephone (202) 708-1197.

• Regulation: 24 CFR 761.30(b).

Project/Activity: Public Housing Drug Elimination Program (PHDEP) Grant #M128DEP0090197. Flint Housing Commission, Flint, Michigan.

Nature of Requirement: Section 761.30(b) establishes the terms of the grant agreement and the procedures for extending the grant term. A waiver of 24 CFR 761.30(b) to extend a 1997 Set-Aside PHDEP grant was requested by the Flint Housing Commission (FHC).

Granted By: Harold Lucas, Assistant Secretary for Public and Indian Housing.

Date Granted: February 3, 2000.

Reason Waived: FHC experienced problems in obtaining proposals for installation security cameras and security doors. It was necessary to tender a new request for proposals for additional proposals. FHC expended time to resolve issues before awarding a contract. By the time all this was completed the grant reached termination.

Contact: Sonia L. Burgos, Director, Community Safety and Conservation Division, Department of Housing and Urban Development, 451 Seventh Street, SW., Rm. 4206, Washington, DC 20410-5000, telephone (202) 708-1197.

• Regulation: 24 CFR 761.30(b).

Project/Activity: Public Housing Drug Elimination Program (PHDEP) Grant #MI28DEP0090198. Flint Housing Commission, Flint, Michigan.

Nature of Requirement: Section 761.30(b) establishes the terms of the grant agreement and the procedures for extending the grant term. A waiver of 24 CFR 761.30(b) to extend a 1998 PHDEP grant was requested by the Flint Housing Commission (FHC).

Granted By: Harold Lucas, Assistant Secretary for Public and Indian Housing.

Date Granted: February 3, 2000.

Reason Waived: FHC was not able to complete the computer learning center relocation, special programs, and fully fund the security guard services due to the grant funds not being available until January 1999.

Contact: Sonia L. Burgos, Director, Community Safety and Conservation Division, Department of Housing and Urban Development, 451 Seventh Street, SW., Rm. 4206, Washington, DC 20410-5000, telephone (202) 708-1197.

• Regulation: 24 CFR 761.30(b).

Project/Activity: Bethlehem Housing Authority, Bethlehem, Pennsylvania.

Nature of Requirement: Section 761.30(b) establishes the terms of the grant agreement and the procedures for extending the grant term. A waiver of 24 CFR 761.30(b) to extend a PHDEP 1997 grant was requested by the Bethlehem Housing Authority (BHA), Bethlehem, Pennsylvania.

Granted By: Harold Lucas, Assistant Secretary for Public and Indian Housing.

Date Granted: February 25, 2000.

Reason Waived: The BHA requested this waiver to expend the remaining funds ($97,807) that they were unable to spend because of contractual problems encountered and the loss of essential personnel.

Contact: Sonia L. Burgos, Director, Community Safety and Conservation Division, Department of Housing and Urban Development, 451 Seventh Street, SW., Rm. 4206, Washington, DC 20410-5000, telephone (202) 708-1197.

• Regulation: 24 CFR 761.30(b).

Project/Activity: Public Housing Drug Elimination Program (PHDEP) Grant #NM00DEP0090197. Santa Fe Civic Housing Authority, Santa Fe, New Mexico.

Nature of Requirement: Section 761.30(b) establishes the terms of the grant agreement and the procedures for extending the grant term. A waiver of 24 CFR 761.30(b) to extend a PHDEP 1997 grant was requested by the Santa Fe Civic Housing Authority (SCHA).

Granted By: Harold Lucas, Assistant Secretary for Public and Indian Housing.

Date Granted: February 25, 2000.

Reason Waived: SCHA experienced numerous turnovers of personnel, which delayed the timely drawdown of PHDEP funds. SCHA also experienced jurisdictional issues between the district and the municipality causing additions delays.

Contact: Sonia L. Burgos, Director, Community Safety and Conservation Division, Department of Housing and Urban Development, 451 Seventh Street, SW., Rm. 4206, Washington, DC 20410-5000, telephone (202) 708-1197.

• Regulation: 24 CFR 761.30(b).

Project/Activity: South Charleston Housing Authority, South Charleston, West Virginia.

Nature of Requirement: Section 761.30(b) establishes the terms of the grant agreement and the procedures for extending the grant term. A waiver of 24 CFR 761.30(b) to extend a PHDEP 1998 grant was requested by the South Charleston Housing Authority, South Charleston, West Virginia (SCHA).

Granted By: Harold Lucas, Assistant Secretary for Public and Indian Housing.

Date Granted: February 28, 2000.

Reason Waived: The SCHA requested an extension to their 1998 grant to use PHDEP funds (approximately $7,163.00) to conduct classes at the agency's new on-site computer lab. These classes will enable the adults to enhance their computer skills. Also, school age children will be granted access to the lab for the purpose of preparing reports for class reports for class assignments.

Contact: Sonia L. Burgos, Director, Community Safety and Conservation Division, Department of Housing and Urban Development, 451 Seventh Street, SW., Rm. 4206, Washington, DC 20410-5000, telephone (202) 708-1197.

• Regulation: 24 CFR 761.30(b).

Project/Activity: Public Housing Drug Elimination Program (PHDEP) Grant #PH26DEP0230197. Delaware State Housing Authority, Delaware County, PA.

Nature of Requirement: Section 761.30(b) establishes the terms of the grant agreement and the procedures for extending the grant term. A waiver of 24 CFR 761.30(b) to extend a PHDEP 1997 grant for Delaware State Housing Authority, Delaware County, Pennsylvania.

Granted By: Harold Lucas, Assistant Secretary for Public and Indian Housing.

Date Granted: February 28, 2000.

Reason Waived: The Delaware State Housing Authority (DSHA) seeks this waiver so that contractors can expend all appropriated PHDEP funds. Since program costs were not as high as anticipated under Law Enforcement they have $6,225 remaining and under Drug Prevention $17,035.99 for an overall total of $23,260.99.

Contact: Sonia L. Burgos, Director, Community Safety and Conservation Division, Department of Housing and Urban Development, 451 Seventh Street, SW., Rm. 4206, Washington, DC 20410-5000, telephone (202) 708-1197.

• Regulation: 24 CFR 761.30(b).

Project/Activity: Providence Housing Authority, Providence, RI, Grant #R143DEP0010197.

Nature of Requirement: Section 761.30(b) establishes the terms of the grant agreement and the procedures for extending the grant term. A waiver of 24 CFR 761.30(b) to extend a PHDEP 1997 grant was requested by the Providence Housing Authority (PHA), Providence, RI.

Granted By: Harold Lucas, Assistant Secretary for Public and Indian Housing.

Date Granted: March 30, 2000.

Reason Waived: The PHA has achieved substantial cost savings in its Fiscal Year 1997 PHDEP Program. The unanticipated savings resulted in the PHA making adjustments to its grant activities and delivery of programs. Adding to this is the fact that the PHA's fiscal year date is in conflict with the HUD's grant execution date. The grant execution date was in December and the PHA's fiscal date had already started six months prior. This extension will allow the closure of this grant and coincide with the PHA's fiscal year.

Contact: Sonia L. Burgos, Director, Community Safety and Conservation Division, Department of Housing and Urban Development, 451 Seventh Street, SW., Rm. 4206, Washington, DC 20410-5000, telephone (202) 708-1197.

• Regulation: 24 CFR 761.30(b).

Project/Activity: Cambridge Housing Authority, Cambridge, Massachusetts.

Nature of Requirement: Section 761.30(b) establishes the terms of the grant agreement and the procedures for extending the grant term. A waiver of 24 CFR 761.30(b) to extend a PHDEP 1997 grant was requested by Cambridge Housing Authority (CHA), Cambridge, MA.

Granted By: Harold Lucas, Assistant Secretary for Public and Indian Housing.

Date Granted: April 3, 2000.

Reason Waived: The CHA has experienced a time lag with respect to the billing of services from the Cambridge Police Department for patrols. The patrol services under this contract are scheduled to be completed by June 30, 2000. In addition, the CHA experienced delays in obligating Fiscal Year 1997 PHDEP funds because of an overlay in previous years' PHDEP activities and its coordinator was on extended leave because of injury.

Contact: Sonia L. Burgos, Director, Community Safety and Conservation Division, Department of Housing and Urban Development, 451 Seventh Street, SW., Rm. 4206, Washington, DC 20410-5000, telephone (202) 708-1197.

• Regulation: 24 CFR 761.30(b).

Project/Activity: Woburn Housing Authority, Woburn, Massachusetts Grant #MA06DEP0190197.

Nature of Requirement: Section 761.30(b) establishes the terms of the grant agreement and the procedures for extending the grant term. A waiver of 24 CFR 761.30(b) to extend a PHDEP 1997 grant was requested by the Woburn Housing Authority.

Granted By: Harold Lucas, Assistant Secretary for Public and Indian Housing.

Date Granted: April 5, 2000.

Reason Waived: The WHA requested the extension of the 1997 grant to use PHDEP funds for physical improvements, equipment, and youth career development. The WHA also requested to reprogram funds from Budget Line Item (BLI)9110 into BLI9150 (Physical Improvement). This is needed so that the WHA can increase security measures in the Spring Court Extension Housing Development and provide additional services to increase employment and track high risk youths.

Contact: Sonia L. Burgos, Director, Community Safety and Conservation Division, Department of Housing and Urban Development, 451 Seventh Street, SW., Rm. 4206, Washington, DC 20410-5000, telephone (202) 708-1197.

• Regulation: 24 CFR 761.30(b).

Project/Activity: Edinburg Housing Authority, Edinburg, TX.

Nature of Requirement: Section 761.30(b) establishes the terms of the grant agreement and the procedures for extending the grant term. A waiver of 24 CFR 761.30(b) to extend a PHDEP 1997 grant was requested by the Edinburg Housing Authority (EHA), Edinburg, TX.

Granted By: Harold Lucas, Assistant Secretary for Public and Indian Housing.

Date Granted: April 10, 2000.

Reason Waived: The EHA requested a twelve (12) month amendment to the grant term in order to expend the remaining PHDEP funds (approximately $145,774.05). The EHA cites the abrupt departure of its drug grant coordinator, as well as missing PHDEP grant files as its reasons for an extension request. The EHA has assigned a staff member to temporarily “monitor” the grant programs until they can fill the position within the next few months.

Contact: Sonia L. Burgos, Director, Community Safety and Conservation Division, Department of Housing and Urban Development, 451 Seventh Street, SW., Rm. 4206, Washington, DC 20410-5000, telephone (202) 708-1197.

• Regulation: 24 CFR 761.30(b).

Project/Activity: Edinburg Housing Authority, Edinburg, TX.

Nature of Requirement: Section 761.30(b) establishes the terms of the grant agreement and the procedures for extending the grant term. A waiver of 24 CFR 761.30(b) to extend a PHDEP 1998 grant was requested by the Edinburg Housing Authority (EHA), Edinburg, TX.

Granted By: Harold Lucas, Assistant Secretary for Public and Indian Housing.

Date Granted: April 10, 2000.

Reason Waived: The EHA requested a twelve (12) month amendment to the grant term in order to expend the remaining PHDEP funds (approximately $100,268.47). The EHA cites the abrupt departure of its drug grant coordinator, as well as missing PHDEP grant files as its reasons for an extension request. The EHA has assigned a staff member to temporarily “monitor” the grant programs until they can fill the position within the next few months.

Contact: Sonia L. Burgos, Director, Community Safety and Conservation Division, Department of Housing and Urban Development, 451 Seventh Street, SW, Rm. 4206, Washington, DC 20410-5000, telephone (202) 708-1197.

• Regulation: 24 CFR 761.30(b)(1) and Section I(f)(6) of the Fiscal Year 1997 Notice of Funding Availability for the Public and Indian Housing Drug Elimination Program.

Project/Activity: A request was made by the White Mountain Apache Housing Authority (WMAHA), White River, AZ, to waive the term of the grant agreement beyond 24-months for the Public and Indian Housing Drug Elimination Program (PIHDEP). The regulations state that any funds not expended at the end of the grant term shall be remitted to HUD. The regulations also state that the maximum extension allowable for any program is six months. The tribe requested an extension because they needed additional time to continue their efforts to have a positive impact on the communities which they serve.

Granted By: Harold Lucas, Assistant Secretary for Public and Indian Housing.

Date Granted: April 17, 2000.

Reason Waived: Based on the narrative justification that was submitted to the Department on behalf of the WMAHA and their timely submission of required documents, the Department believed that there was good cause to waive the extension/grant term requirements of 24 CFR 761.30 (b)(1) and Section I(f)(6) of the Fiscal Year 1997 Notice of Funding Availability (NOFA) for the Public and Indian Housing Drug Elimination Program.

Contact: Deborah Lalancette, Director, Housing Management Division, Office of Native American Programs, Department of Housing and Urban Development, 1999 Broadway, Suite 3390, Box 90, Denver, CO 80202, telephone (202) 675-1600.

• Regulation: 24 CFR 761.30(b)(5).

Project/Activity: A request was made by the All Mission Indian Housing Authority (AMIHA), Escondido, CA, to waive the term of the grant agreement beyond 24-months for the Public and Indian Housing Drug Elimination Program (PIHDEP). The regulations state that any funds not expended at the end of the grant term shall be remitted to HUD. The regulations also state that the maximum extension allowable for any program is six months. The tribe requested an extension because they needed an additional nine months to complete approved activities and formally close-out their grant.

Granted By: Harold Lucas, Assistant Secretary for Public and Indian Housing.

Date Granted: April 18, 2000.

Reason Waived: Based on the narrative justification that was submitted to the Department on behalf of the WMAHA and their timely submission of required documents, the Department believed that there was good cause to waive the extension/grant term requirements of 24 CFR 761.30(b)(5).

Contact: Deborah Lalancette, Director, Housing Management Division, Office of Native American Programs, Department of Housing and Urban Development, 1999 Broadway, Suite 3390, Box 90, Denver, CO 80202, telephone (202) 675-1600.

• Regulation: 24 CFR 968.112.

Project/Activity: Public Housing Comprehensive Grant Program of the New Orleans Housing Authority, New Orleans, LA. LA 1-14, LA 1-16, and LA 1-44.

Nature of Requirement: Waiver of 24 CFR 968.112 was requested by the New Orleans Housing Authority to exceed the Total Development Cost limits by $2,877,548.

Granted By: Deborah Vincent, General Deputy Assistant Secretary for Public and Indian Housing.

Date Granted: June 2, 1999.

Reason Waived: The Housing Authority stated that extenuating circumstances such as extensive termite damage, elimination of exterior walkways which compromised resident security, and lead-based paint and asbestos abatement justified the increased cost.

Contact: William J. Flood, Director, Capital Improvements Division, Department of Housing and Urban Development, 451 Seventh Street, S.W., Rm. 4146, Washington, DC 20410-5000, telephone (202) 708-1640.

• Regulation: 24 CFR 982.306(d).

Project/Activity: Warren Metropolitan Housing Authority, OH, Section 8 voucher program.

Nature of Requirement: Section 982.306(d) limits the circumstances under which a landlord could lease a unit with tenant-based assistance to a relative of the landlord.

Granted By: Harold Lucas, Assistance Secretary for Public and Indian Housing.

Date Granted: January 27, 2000.

Reason Waived: Approval of the waiver prevented a hard-to-housing family that had completed the transitional housing program from becoming homeless by allowing the family to lease a unit from a relative. There were no other units available in the PHA's jurisdiction large enough to accommodate the family.

Contact: Gerald Benoit, Director, Real Estate and Housing Performance Division, Office of Public and Assisted Housing Delivery, Office of Public and Indian Housing, Department of Housing and Urban Development, 451 Seventh Street, S.W., Room 4210. Washington, D.C. 20410, telephone (202) 708-0477.

• Regulation: 24 CFR 983.7(c)(4).

Project/Activity: Metropolitan Council Housing and Redevelopment Authority, MN, project-based certificate program.

Nature of Requirement: Section 983.7(c)(4) prohibits attaching project-based rental assistance to units within a Section 236 program.

Granted By: Harold Lucas, Assistant Secretary for Public and Indian Housing.

Date Granted: April 12, 2000.

Reason Waived: Approval of the waiver preserved 66 units of affordable housing for low-income frail elderly families residing in the Franklin Apartments in Anoka, Minnesota. The City of Anoka has a tight rental market and an extremely low vacancy rate.

Contact: Gerald Benoit, Director, Real Estate and Housing Performance Division, Office of Public and Assisted Housing Delivery, Office of Public and Indian Housing, Department of Housing and Urban Development, 451 Seventh Street, S.W. Room 4210. Washington, D.C. 20410, telephone (202) 708-0477.

• Regulation: 24 CFR 990.107(f) and 990.109.

Project/Activity: Housing Authority of the County of Kern, CA. The Housing authority requested permission to benefit from energy performance contracting for developments which have tenant-paid utilities. The HA estimates that it could increase savings substantially if it were able to undertake energy performance contracting for both PHA-paid and tenant-paid utilities.

Nature of Requirement: Under 24 CFR 990, Performance Funding System (PFS) energy conservation incentive that relates to energy performance contracting currently applies to only PHA-paid utilities. The Housing Authority of the County of Kern has both PHA-paid and tenant-paid utilities.

Granted By: Harold Lucas, Assistant Secretary for Public and Indian Housing.

Date Granted: February 2, 2000.

Reason Waived: In September 1996, the Oakland Housing Authority was granted a waiver to permit the Authority to benefit from energy performance contracting for developments with tenant-paid utilities. The waiver was granted on the basis that the Authority presented a sound and reasonable methodology for doing so. The Housing Authority of the County of Kern requested a waiver based on the same approved methodology. The waiver permits the HA to exclude from its PFS calculation of rental income, increased rental income due to the difference between updated baseline utility (before implementation of the energy conservation measures) and revised allowances(after implementation of the measures) for the project(s) involved for the duration of the contract period, which cannot exceed 12 years.

Contact: Regina McGill, Director, Funding and Financial Management Division, Office of Public and Assisted Housing Delivery, Office of Public and Indian Housing, Department of Housing and Urban Development, 451 Seventh Street, S.W. Room 4216, Washington, D.C. 20410, telephone (202) 708-1872.

• Regulation: 24 CFR 990.107(f) and 990.109.

Project/Activity: Housing Authority of Conway, SC. The Housing Authority requested permission to benefit from energy performance contracting for developments which have tenant-paid utilities. The HA estimates that it could increase savings substantially if it were able to undertake energy performance contracting for both PHA-paid and tenant-paid utilities.

Nature of Requirement: Under 24 CFR 990, Performance Funding System (PFS) energy conservation incentive that relates to energy performance contracting currently applies to only PHA-paid utilities. The Housing Authority of Conway has both PHA-paid and tenant-paid utilities.

Granted By: Harold Lucas, Assistant Secretary for Public and Indian Housing.

Date Granted: March 8, 2000.

Reason Waived: In September 1996, the Oakland Housing Authority was granted a waiver to permit the Authority to benefit from energy performance contracting for developments with tenant-paid utilities. The waiver was granted on the basis that the Authority presented a sound and reasonable methodology for doing so. The Housing Authority of Conway requested a waiver based on the same approved methodology. The waiver permits the HA to exclude from its Performance Funding System (PFS) calculation of rental income, increased rental income due to the difference between updated baseline utility (before implementation of the energy conservation measures) and revised allowances (after implementation of the measures) for the project(s) involved for the duration of the contract period, which cannot exceed 12 years.

Contact: Regina McGill, Director, Funding and Financial Management Division, Office of Public and Assisted Housing Delivery, Office of Public and Indian Housing, Department of Housing and Urban Development, 451 Seventh Street, S.W. Room 4216, Washington, D.C. 20410, telephone (202) 708-1872.

• Regulation: 24 CFR 1000.156.

Project/Activity: Cost limits on Indian Housing Block Grant development activities, Student Living and Learning Center, Cook Inlet Housing Authority.

Nature of Requirement: Section 1000.156 establishes limits on the amount of IHBG funds that may be spent on dwelling construction and equipment (DC&E) for affordable housing for housing developed or acquired.

Granted By: Harold Lucas, Assistant Secretary for Public and Indian Housing.

Date Granted: September 15, 1999.

Reason Waived: The Cook Inlet Housing Authority provided to HUD cost estimates supporting their estimates of the amount required to construct the housing project. These estimates contained costs not included in HUD published DC&E cost limits. The waiver of § 1000.156 provides for a departure from the definition of DC&E contained in the regulation and establishes a maximum amount of IHBG funds that may be expended by CIHA for eligible IHBG activities.

Contact: Bruce Knott, Director, Office of Grants Evaluation, Office of Native American Programs, Department of Housing and Urban Development, 1999 Broadway, Suite 3390, Box 90, Denver, CO 80202, telephone (303) 675-1600.

• Regulation: 24 CFR 1005.107(b)(2).

Project/Activity: A request was made by the Intergovernmental Relations Committee of the Navajo Nation Council for HUD to waive a Section 184 Loan Guarantees for Indian Housing regulatory requirement placed upon the Navajo Nation by the Federal government.

Nature of Requirement: If a leasehold interest in trust or restricted land is used as collateral or security in the Section 184 program, the land lease must be on a form approved by the Department. The Section 184 regulation at 24 CFR 1005.107(b)(2) provides in relevant part:

“The lease form must contain a provision requiring tribal consent before any assumption of an existing lease, except where title to the leasehold interest is obtained by the Department through foreclosure of the guaranteed mortgage or a deed in lieu of foreclosure. A mortgagee other than the Department must obtain tribal consent before obtaining title through a foreclosure sale. Tribal consent must be obtained on any subsequent transfer from the purchaser, including the Department, at foreclosure sale.”

Granted By: Harold Lucas, Assistant Secretary for Public and Indian Housing.

Date Granted: June 30, 2000.

Reason Waived: The Department's regulation was created to provide tribal governments control over the assignment of home site leases but the Navajo Nation has chosen to address this matter in a different manner. The consent by the Navajo Nation is not required before an assumption of an existing lease or a foreclosure sale; adequate protection is provided to the Navajo Nation in the Navajo mortgage and lease forms and system of government. The favorable disposition of the waiver request does not adversely affect the interests of the Department and is consistent with EO 13084 which encourages flexibility in the consideration of waiver requests from tribal governments.

Contact: Robert E. Knecht, Director, Office of Loan Guarantee Office of Native American Programs, Department of Housing and Urban Development, 1999 Broadway, Suite 3390, Box 90, Denver, CO 80202, telephone (303) 675-1600.

[FR Doc. 00-28062 Filed 11-1-00; 8:45 am]

BILLING CODE 4210-32-P